FEDERAL COMMUNICATIONS COMMISSION

47 CFR Part 1

[OI Docket No. 24-523, MD Docket No. 24-524; FCC 25-49; FR ID 311053]

Review of Submarine Cable Landing License Rules and Procedures To Assess Evolving National Security, Law Enforcement, Foreign Policy, and Trade Policy Risks

AGENCY: Federal Communications Commission.

ACTION: Proposed rule.

SUMMARY: In this document, the Federal Communications Commission (Commission or FCC) adopted a Further Notice of Proposed Rulemaking (FNPRM) that proposes to prevent national security risks from current and potential foreign adversaries, while encouraging the use of trusted technology and measures to further accelerate the buildout of submarine cables. The FNPRM proposes a regulatory framework that would grant a blanket license to entities that own or operate Submarine Line Terminal Equipment (SLTEs), subject to certain exclusions and routine conditions, such as a tailored foreign adversary annual report. The FNPRM proposes new certifications and routine conditions related to foreign adversaries to further protect submarine cables from national security risks. The FNPRM also proposes an approach to expedite deployment of submarine cables that connect to the United States by presumptively excluding submarine cable applications from referral to the relevant Executive Branch agencies if they meet certain standards. The FNPRM seeks comment on requiring existing licensees to remove from their submarine cable system covered equipment or services, within a specified timeframe prior to the expiration of the license. The FNPRM also seeks comment on how the Commission can use its authority to incentivize and encourage the adoption and the use of trusted technologies produced and provided by the United States and its foreign allies.

DATES: Comments are due November 26, 2025; reply comments are due December 26, 2025.

ADDRESSES: Pursuant to §§ 1.415 and 1.419 of the Commission's rules, 47 CFR 1.415, 1.419, interested parties may file comments and reply comments on or before the dates indicated on the first page of this document. Comments may be filed using the Commission's Electronic Comment Filing System (ECFS). You may submit comments, identified by OI Docket No. 24-523 or MD Docket No. 24-524, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (braille, large print, electronic files, audio format), send an email to fcc504@fcc.gov or call the Consumer & Governmental Affairs Bureau at 202-418-0530.

FOR FURTHER INFORMATION CONTACT: Desiree Hanssen, Office of International Affairs, Telecommunications and Analysis Division, at desiree.hanssen@fcc.gov or at (202) 418-0887. For additional information concerning the Paperwork Reduction Act information collection requirements contained in this document, send an email to PRA@fcc.gov or contact Cathy Williams at 202-418-2918 or Cathy.Williams@fcc.gov.

SUPPLEMENTARY INFORMATION: This is a summary of the Commission's Further Notice of Proposed Rulemaking (FNPRM), in OI Docket No. 24-523, in MD Docket No. 24-524, FCC 25-49, adopted on August 7, 2025, and released on August, 13, 2025. The full text of this document is available online at https://docs.fcc.gov/public/attachments/FCC-25-49A1.pdf. The full text of this document is also available for public inspection and copying during business hours in the FCC Reference Center, 45 L Street NE, Washington, DC 20554. To request materials in accessible formats for people with disabilities, send an email to FCC504@fcc.gov or call the Consumer & Governmental Affairs Bureau at 202-418-0530 (voice), 202-418-0432 (TTY).

Providing Accountability Through Transparency Act. The Providing Accountability Through Transparency Act, Public Law 118-9, requires each agency, in providing notice of a rulemaking, to post online a brief plain-language summary of the proposed rule. The required summary of this FNPRM is available at https://www.fcc.gov/proposed-rulemakings. To request materials in accessible formats for people with disabilities (e.g. Braille, large print, electronic files, audio format), send an email to fcc504@fcc.gov or call the Consumer & Governmental Affairs Bureau at (202) 418-0530.

Ex Parte Presentations. The proceeding this Notice initiates shall be treated as a “permit-but-disclose” proceeding in accordance with the Commission's ex parte rules. See 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Act. The Commission has prepared an Initial Regulatory Flexibility Analysis (IRFA) concerning the potential impact of rule and policy change proposals on small entities in the Further Notice of Proposed Rulemaking. The Commission invites the general public, in particular small businesses, to comment on the IRFA. Comments must be filed by the deadlines for comments on the Further Notice of Proposed Rulemaking indicated on the first page of this document and must have a separate and distinct heading designating them as responses to the IRFA.

Paperwork Reduction Act. This document may also contain proposed new or modified information collection requirements. The Commission, as part of its continuing effort to reduce paperwork burdens, invites the general public and OMB to comment on any information collection requirements contained in this document, as required by the PRA. In addition, pursuant to the Small Business Paperwork Relief Act of 2002, Public Law 107-198, see 44 U.S.C. 3506(c)(4), we seek specific comment on how we might further reduce the information collection burden for small business concerns with fewer than 25 employees.

Synopsis

I. Introduction

1. In this item, we modernize and streamline the Commission's submarine cable rules to facilitate faster and more efficient deployment of submarine cables, while at the same time ensuring the security and resilience of this critical infrastructure. We recognize that investment in such infrastructure is vital to American prosperity and economic dynamism. The rules that we adopt today will ensure that the United States remains ready and able to deploy submarine cable infrastructure with increasing amounts of capacity to meet current and future internet and data demands so that the United States remains “the unrivaled world leader in critical and emerging technologies—such as artificial intelligence.” With global competition for submarine cables increasing, connections to the United States should continue to be at the forefront of the submarine cable marketplace. Nonetheless, “[i]nvestment at all costs is not always in the national interest,” because of the potential for foreign adversary exploitation. We also recognize that “[e]conomic security is national security,” and thus protecting our communications networks against foreign threats is crucial. With these principles in mind today, we undertake the first major comprehensive update of our submarine cable rules since 2001. Since that time, technology, consumer expectations, international submarine cable traffic patterns, submarine cable infrastructure, and the foreign threat landscape have changed greatly.

2. To advance the Commission's comprehensive strategy to build a more secure and resilient communications supply chain, we adopt rules that place a strong emphasis on preventing and mitigating national security risks from foreign adversaries, while welcoming investment from United States allies and partners. We also lighten the regulatory burden on industry by modernizing and simplifying the submarine cable license approval process.

3. In the FNPRM, we propose to build upon the efforts adopted in the Report and Order to prevent national security risks from current and potential foreign adversaries, while encouraging the use of trusted technology and measures to further accelerate the buildout of submarine cables. We propose and seek comment on a regulatory framework that would require entities that own or operate SLTEs to become licensees. We propose granting SLTE owners and operators a blanket license, subject to certain exclusions and routine conditions, to reduce burdens on industry and encourage the investment in and deployment of submarine cable systems. As a condition of any grant of a blanket license, we also propose to require existing SLTE owners and operators that are owned by, controlled by, or subject to the jurisdiction or direction of a foreign adversary, or other relevant criteria, to submit a tailored annual report (SLTE Foreign Adversary Annual Report) to ensure that the Commission maintains consistent oversight over their operations. We propose new certifications and routine conditions related to foreign adversaries to further protect submarine cables from national security risks.

4. While the FNPRM is pending, and to streamline the processing of submarine cable applications during this time, we will consistently implement our streamlined processing rules and not defer action on a submarine cable application unless the Executive Branch agencies, including the agencies that form the Committee for the Assessment of Foreign Participation in the United States Telecommunications Services Sector (Committee), provide specific and compelling national security, law enforcement, or other justifications to defer action. We propose an approach to expedite deployment of submarine cables that connect to the United States by presumptively excluding submarine cable applications from referral to the relevant Executive Branch agencies if they meet certain standards. To further protect U.S. submarine cable networks from national security and law enforcement threats, we seek comment on whether to require existing licensees to remove from their submarine cable system any and all covered equipment or services, within a specified timeframe prior to the expiration of the license. We also seek comment on how the Commission can use its authority pursuant to the Cable Landing License Act of 1921 (Cable Landing License Act or the Act) and Executive Order 10530 of 1954, to incentivize and encourage the adoption and the use of trusted technologies produced and provided by the United States and its foreign allies. Finally, we seek comment on whether under certain circumstances to streamline approval of domestic cables.

5. In short, we “maintain[ ] the strong, open investment environment that benefits our economy and our people, while enhancing our ability to protect the United States from new and evolving threats” in the submarine cable ecosystem.

II. Background

6. In November 2024, the Commission adopted the 2024 Cable NPRM, initiating a comprehensive review of the submarine cable rules to develop forward-looking rules to better protect submarine cables, identify and mitigate harms affecting national security and law enforcement, and facilitate the deployment of submarine cables and capacity to the market. As explained in the 2024 Cable NPRM, the Commission's authority to grant, withhold, revoke, or condition submarine cable landing licenses derives from the Cable Landing License Act and Executive Order 10530. The Commission discussed in detail its rules and coordination of applications with the Executive Branch agencies, including the Committee, to assess applicants and licensees for assessment of any national security, law enforcement, foreign policy, and/or trade policy concerns. The Commission also discussed the existing procedures by which it coordinates with the State Department on all submarine cable applications and obtains approval of any proposed grant of an application or revocation of a cable landing license pursuant to the Cable Landing License Act and Executive Order 10530.

7. Recent Commission Actions Regarding National Security. The Commission has recognized that national security is built on both protecting the nation's communications infrastructure from foreign adversary threats and promoting the prosperity and robustness of the communications sector. The Commission in its recent rulemaking proceedings and actions is continuing its ongoing efforts to secure and protect communications networks from foreign adversaries, while recognizing that investment in U.S. communications networks bolsters national security. In December 2024, the Commission engaged with stakeholders in light of U.S. government confirmed reports that state-sponsored foreign actors tied to the People's Republic of China (PRC) infiltrated at least eight U.S. communications companies in a massive espionage effort, an incident known as Salt Typhoon. The Commission has continued to remain vigilant against this and other foreign adversary cyberthreats.

8. Earlier this year, shortly after President Trump announced in February 2025 the America First Investment Policy, which states that “[e]conomic security is national security” and discusses the need to limit certain investments in strategic sectors by six identified foreign adversaries, the Commission initiated a series of actions. In March 2025, the Commission responded to threats posed by the People's Republic of China and to the evolving threat environment more generally, by establishing a Council for National Security to bring together the Commission's regulatory, investigatory, and enforcement authorities to counter foreign adversaries. The Council was established with a three-part goal: “(1) Reduce the American technology and telecommunications sectors' trade and supply chain dependencies on foreign adversaries; (2) Mitigate America's vulnerabilities to cyberattacks, espionage, and surveillance by foreign adversaries; and (3) Ensure the U.S. wins the strategic competition with China over critical technologies, such as 5G and 6G, AI, satellites and space, quantum computing, robotics and autonomous systems, and the Internet of Things.” In the same month, the Commission opened a separate proceeding, the Delete, Delete, Delete proceeding, with an aim to remove outdated and unnecessary regulations to clear away obstacles to investment.

9. On May 22, 2025, the Commission took action in two distinct proceedings to protect our nation's communications infrastructure from foreign adversary threats. First, in the Equipment Authorization Report and Order and FNPRM, the Commission adopted new rules to help ensure that the telecommunication certification bodies (TCBs), measurement facilities (test labs), and laboratory accreditation bodies that participate in our equipment authorization program are not subject to ownership, direction, or control by untrustworthy actors, including foreign adversaries, that pose a risk to national security. The Equipment Authorization Report and Order prohibits Commission recognition of any TCB, test lab, or laboratory accreditation body owned by, controlled by, or subject to the direction of a prohibited entity, and prohibits such TCBs, test labs, and laboratory accreditation bodies from participating in the Commission's equipment authorization program.

10. Second, in the Foreign Adversary NPRM, the Commission proposed to adopt certification and information collection requirements that would fill gaps in the Commission's existing rules and give the Commission, and the public, a new and comprehensive view of threats from foreign adversaries in the communications sector. Specifically, the Commission proposed to apply new certification and disclosure requirements on entities holding every type of license, permit, or authorization, rather than only certain specific licenses, and to go beyond foreign adversary ownership to also cover all regulated entities controlled by or subject to the jurisdiction or direction of a foreign adversary. The Commission stated that, by focusing on foreign adversary ownership or control, rather than foreign influence more broadly, the proposed rules are tailored to avoid needless burden on regulated entities.

11. 2024 Cable NPRM. On November 22, 2024, the Commission adopted the 2024 Cable NPRM, which initiated the first major review of the submarine cable rules since 2001, and sought comment on how best to improve and streamline the rules to facilitate efficient deployment of submarine cables while ensuring the security, resilience, and protection of this critical infrastructure. Among other things, the Commission sought comment on codifying the scope of the Commission's licensing requirements under the Cable Landing License Act and Executive Order 10530 and other legal requirements, improving the Commission's oversight of submarine cable landing licenses, and adopting targeted requirements to protect submarine cables from national security and law enforcement risks. The Commission further sought comment on streamlining procedures to expedite submarine cable review processes and improving the quality of the circuit capacity data and facilitating the sharing of such information with other federal agencies. To address evolving national security, law enforcement, and other risks, the Commission sought comment on updating application requirements for national security purposes and ensuring the Commission has targeted and granular information regarding the ownership, control, and use of a submarine cable system, adopting new compliance certifications, and on any additional steps the Commission can take to protect this critical infrastructure, including activities in coordination with other federal agencies.

12. Earlier this year, the Commission received 18 comments, nine reply comments, and several ex partes pertaining to a wide range of topics discussed in the 2024 Cable NPRM. Several commenters supported the proposal to codify a definition of a submarine cable system in the Commission's rules. Some commenters offered reservations about potentially duplicative requirements between the proposed periodic reporting, which sought updated ownership and other information, and similar requirements in mitigation agreements with the Committee, as well as concerns about requiring SLTE owners and operators to be licensees. Other commenters offered generally critical views about the proposal to lower the ownership threshold for reportable interests from 10% to 5%, with some further refinements suggested. Some commenters expressed reservations about including capacity holders or IRU holders and lessees under a licensing requirement. Meanwhile, several commenters supported the effort to streamline applications and offered recommendations. As explained below, we have considered these and other comments in the thorough record received and either take action today or seek additional comment.

III. Further Notice of Proposed Rulemaking

13. In this FNPRM, we propose concrete steps to build upon the Report and Order and recent proceedings to prevent national security risks from current and potential foreign adversaries. While this FNPRM is pending, and to streamline the processing of submarine cable applications during this time, we will consistently implement our streamlined processing rules and not defer action on a submarine cable application unless the Committee provides specific and compelling national security, law enforcement, or other justifications to defer action. We propose to require SLTE owners and operators to become licensees on a cable landing license and seek comment on a regulatory framework for SLTE owners and operators that balances national security concerns with the need to reduce regulatory burdens. In addition, we propose new certifications and routine conditions related to foreign adversaries to further protect submarine cables from national security risks. Moreover, we propose an approach to expedite deployment of submarine cables that connect to the United States by presumptively excluding submarine cable applications from referral to the Executive Branch agencies if they meet certain standards. Finally, we propose and broadly seek comment on additional measures to reform and streamline the submarine cable licensing rules and processes, with the goal of accelerating and enhancing the buildout of submarine cable infrastructure, and seek comment on the costs and benefits of the proposed rules and any alternatives.

A. Regulatory Framework for SLTEs

14. In the 2024 Cable NPRM, the Commission sought comment on whether to require entities that own or control the SLTE to be applicants for and licensees on a cable landing license. The Commission explained that “[t]he SLTE is among the most important equipment associated with the submarine cable system and this modification to our rule would enable the Commission to know and assess any national security and law enforcement concerns related to the entities that will deploy SLTE and thus who can significantly affect the cable system's operations.” The Commission also noted that a proposed cable system could have multiple locations where SLTE is deployed and therefore sought comment on whether and if so, how, to incorporate entities with ownership or control of SLTEs into our regulatory framework. The 2024 Cable NPRM included an example of how the Commission would apply this licensing requirement, including certain IRU holders or grantees. Many commenters, including NASCA, Coalition, Microsoft, ICC, INCOMPAS, and ITI, disagree that the Commission should require SLTE owners and operators to become licensees. However, the Committee identified substantial national security risks associated with SLTE.

15. Although we decline in the Report and Order to require SLTE owners and operators to become licensees, we are taking steps to identify, through the one-time information collection adopted in the Report and Order, how many entities currently own or operate SLTEs on existing licensed cable systems. Through the one-time information collection, we will seek information from licensees regarding SLTEs to inform our decisions regarding the questions presented in this FNPRM.

1. Requirements for SLTE Owners and Operators To Be a Licensee

16. We propose to adopt a rule that would require any entity that owns or operates SLTE to become a licensee (SLTE owner and operator) and also be subject to certain routine conditions. We propose to amend § 1.70003 of our newly adopted rules to include as licensees “all entities that own or operate submarine line terminal equipment.” To reduce the burden of requiring existing SLTE owners and operators to file an application to become a licensee, we propose to adopt a blanket license for existing owners and operators of SLTE subject to the conditions below. We use the term “existing owners and operators of SLTE” to refer to any entity that owns and/or operates SLTE on a Commissioned-licensed submarine cable system prior to the effective date of any new applicable rules subsequently adopted in this proceeding. We seek comment on this proposal or whether there are alternatives to this approach. We seek comment on whether our approach is properly tailored to reduce burdens on existing SLTE owners and operators and to limit any impacts of such proposal on existing licensees. We also seek comment on whether this proposal will disproportionately impact small entities that own or operate SLTE.

17. We tentatively conclude the Cable Landing License Act authorizes the Commission to regulate SLTE owners and operators. INCOMPAS and Microsoft state that there is no basis in the Cable Landing License Act for requiring these entities to become licensees because such entities do not “land or operate” a cable system, as required by the Act. We disagree with these commenters' assertions. Under the Cable Landing License Act, a license is required to land or operate a submarine cable connecting to the United States. An entity that owns or operates SLTE operates a significant component of the submarine cable system. In the Report and Order, we adopt a definition that “a submarine cable system carries bidirectional data and voice telecommunications traffic consisting of one or more submarine cable(s) laid beneath the water, and all associated components that support the operation of the submarine cable system end-to-end, including the segments up to the system's terrestrial terminations at one or more SLTEs as well as the transponders that convert optical signals to electrical signals and vice versa.”

18. The ability to convert the telecommunications traffic optical signals to electrical signals and vice versa is simply not possible without equipment that performs that function. That is, the submarine cable system cannot be operated without the SLTE. We determine in the Report and Order that SLTE is a significant component of the system that may be owned separately from the other licensees who are required to comply with routine conditions and oversight under the Cable Landing Act and current Commission rules. Further, SLTE allows an entity to exercise control over its own fiber, capacity, or spectrum on the submarine cable system. With the advent of open cable systems, submarine cable owners and operators now have the ability to pass on an important responsibility of lighting the fiber to certain customers who wish to control their traffic and technology, i.e., dark fiber IRU or lease holders.

19. The Committee explains that entities with dark fiber IRUs that deploy their own SLTE could be foreign adversary-controlled landing parties, telecommunications companies, and governments with interest, access, and control over the fiber, capacity, or spectrum for the “entire life of the cable.” In essence, “[a] foreign adversary-controlled non-licensee entity that owns, controls, or operates its own SLTE, or equivalent equipment, on a submarine cable landing in the United States may have connectivity comparable to operating their own communications cable to the United States without a license, or any regulatory review, mitigation, or monitoring for national security or law enforcement risk.” The Committee further articulates that foreign adversary-affiliated entities that own or operate SLTE pursuant to an IRU or similar legal agreement, may effectively operate a submarine cable system that thereby “allow[s] an adversary to intercept or misroute U.S. persons' communications and sensitive data transiting the cable, posing a serious counterintelligence risk.” These concerns pose significant national security risks that would justify requiring SLTE owners or operators to be licensees on a cable landing license.

20. Based on the ownership of SLTE and ability to operate a significant component of the submarine cable system, we believe SLTE owners and operators fit within the Cable Landing License Act as operators of a submarine cable system. Therefore, we propose to require SLTE owners and operators to become licensees so that we can effectively carry out our duty to protect national security. Moreover, “[t]he Commission may perform any and all acts, make such rules and regulations, and issue such orders, not inconsistent with [the Communications] Act, as may be necessary in the execution of its functions.” Given that submarine cable systems are only functional with SLTE, regulating SLTE owners and operators seems necessary to execute the Commission's duties under the Cable Landing License Act and Executive Order 10530 to regulate submarine cable landing or operation, including withholding or revoking a cable landing license where such action would “promote the security of the United States.” We seek comment on our analysis.

2. Blanket License for SLTE Owners and Operators

21. To reduce burdens and ensure that the Commission tailors this requirement so that it does not interfere with the existing licensing process under our rules, we propose to adopt a blanket license for SLTE owners and operators. We understand that SLTE owners and operators may be different entities from the cable owners and operators that are required to be applicants/licensees under our rules, as amended in § 1.70003. We expect to have a better understanding of SLTEs after the completion of the one-time collection adopted today.

22. We believe that this blanket license approach for SLTE owners and operators is important to ensure the Commission is aware of all the entities that install their own SLTE to use fiber, capacity, or spectrum on the submarine cable system, while also not impacting those entities that are required to apply for a cable landing license pursuant to § 1.70003 of our newly adopted rules. Commenters voice concern that if the Commission requires SLTE owners and operators to become licensees, then it will take a very long time for such entities to obtain a license, resulting in backlog and harm to investment in the submarine cable industry. In addition, commenters are concerned that each time a new SLTE owner and operator is added to the submarine cable system, a modification application would be required in advance, which would exacerbate aforementioned harms. By proposing a blanket license for SLTE owners and operators, we believe that this approach will obviate the need for an initial application for a cable landing license or a modification application as contended by AWS and Coalition, and thus streamline the licensing process for this category of licensees.

23. To protect national security and law enforcement interests, we propose to exclude certain entities from the grant of this blanket license to the extent such entities seek to own or operate new SLTE on any current or future submarine cables landing in the United States. Specifically, we propose to exclude from the grant of this blanket license, any entity that would be subject to the foreign adversary and/or character presumptive disqualifying conditions that we adopt in the Report and Order.

24. We seek comment on whether this proposal is sufficient to ensure the protection and security of the submarine cable infrastructure. Should we instead exclude a larger or smaller category of entities from grant of the blanket license? We seek comment on how this proposal could affect existing licensees as well as the users of submarine cable systems. Are there any alternative approaches that may better achieve our objectives in a less burdensome way? For example, should we adopt regular reporting requirements instead?

25. We seek comment on whether we should allow entities that are excluded from the grant of a blanket license to file an application in accordance with our application rules, as amended in the Report and Order, if they seek to own or operate SLTE. Or should such entities provide an alternative showing, in lieu of an application, that they can overcome the adverse presumption set out in the disqualifying condition? We address in the Report and Order the written process that will apply where the Commission considers whether denial of an application or revocation and/or termination of a cable landing license is warranted. To the extent the Commission or OIA considers that a denial of an application is warranted or revocation and/or termination of a license is warranted, OIA pursuant to its delegated authority would determine appropriate procedures on a case by case basis as required by due process and applicable law and in light of the relevant facts and circumstances, including providing the applicant or licensee with notice and opportunity to cure noncompliance to the extent such an opportunity is required by the APA, and to respond to allegations and evidence in the record. We seek comment on whether the exclusion of certain SLTE owners and operators from the grant of a blanket license may disturb existing licensees' operations and interfere with investment-backed reliance interests of such licensees.

3. Routine Conditions for SLTE Owners and Operators

26. We seek comment on whether to apply distinct routine conditions to SLTE owners and operators as a separate category of licensees. Although SLTE owners and operators operate a significant portion of the submarine cable system as it pertains to an entity's control over a fiber, capacity, or spectrum, we understand that SLTE owners and operators may have distinct responsibilities from other submarine cable owners and operators, such as those licensees that own and maintain common infrastructure for the submarine cable system. Therefore, to satisfactorily tailor any regulatory obligations of SLTE owners and operators, we seek comment on appropriate routine conditions to apply to SLTE owners and operators, as set forth below.

27. With the understanding that certain existing routine conditions may not neatly apply to this category of cable landing licensees, we seek comment to examine whether we should specifically tailor routine conditions to apply to SLTE owners and operators, including for small providers. Are there national security or law enforcement reasons why we may want to apply certain routine conditions to SLTE owners and operators? Are there any reasons why we should limit the number of routine conditions required for SLTE owners and operators? We seek comment on what routine conditions should apply to SLTEs generally. We seek comment on whether we should adopt the same routine conditions that currently apply to cable landing licensees. What routine conditions are appropriate for SLTE owners and operators so that the Commission may retain oversight of these entities and ensure compliance with the Cable Landing License Act and Commission rules?

28. Specifically, we propose that the Commission should require the following as routine conditions on the grant of a blanket license: (1) compliance with all rules and regulations of the Commission; (2) compliance with any treaties or conventions relating to communications to which the United States is or may hereafter become a party; (3) compliance with any action by the Commission or the Congress of the United States rescinding, changing, modifying or amending any rights accruing to any person by grant of the license; (4) the licensee, or any person or company controlling it, controlled by it, or under direct or indirect common control with it, does not enjoy and shall not acquire any right to handle traffic to or from the United States, its territories or its possessions unless such service is authorized by the Commission pursuant to section 214 of the Communications Act, as amended; (5) the licensee shall file a notification for prior approval to become affiliated with a foreign carrier; (6) the licensee shall file annual circuit capacity reports as required by § 43.82 of this chapter; (7) the cable landing license is revocable by the Commission after due notice and opportunity for hearing pursuant to section 2 of the Cable Landing License Act, 47 U.S.C. 35, or for failure to comply with the terms of the license or with the Commission's rules; and (8) the licensee must comply with proposed rule, § 1.70017, by filing the SLTE Foreign Adversary Annual Report, if one or more of the criteria under the proposed rule are met. We believe that the routine conditions will promote the statutory purposes under the Cable Landing License Act and better enable the Commission to carry out its licensing duties in furtherance of those purposes. We seek comment on this view.

29. Licensees under § 1.70003 of our newly adopted rules that seek to consummate a transaction, such as a transfer of control or assignment of the cable landing license, must seek prior approval from the Commission or provide a post-consummation notification consistent with §§ 1.70012 and 1.70013. We seek comment on whether, and if so, how, to apply the Commission's new rules at §§ 1.70012 and 1.70013 to transactions by SLTE owners and operators. If SLTE is sold or transferred to another entity that resumes operation of the SLTE connected to the licensed submarine cable system, the Commission cannot maintain oversight of the SLTE without this information. We seek comment on whether the Commission should be made aware if the SLTE and/or SLTE owner and operator is transferred or assigned to another entity. We seek comment on the impact of such a reporting requirement on small SLTE owners and operators. For transactions involving transfers of control or assignments of the SLTE itself or the SLTE owner and operator, how should the Commission frame its rules? For both scenarios, should the existing SLTE owner and operator be obligated to file an application seeking prior approval of the transaction? Or should the existing SLTE owner and operator file a notification including basic information about the transaction? We seek comment on how the Commission should handle pro forma transactions, such as whether it should merely apply the transaction rules set forth in our newly adopted rules to this category of licensees. We seek comment on methods the Commission can employ to ensure its records remain up-to-date, but that do not unduly delay or interfere with the ability of an SLTE owner and operator to sell, purchase, transfer, or take a similar action that is consistent with the SLTE owner's and operator's business needs. Our existing rules require that “[t]he licensee, or in the case of multiple licensees, the licensees collectively, shall maintain de jure and de facto control of the U.S. portion of the cable system, including the cable landing stations in the United States, sufficient to comply with the requirements of the Commission's rules and any specific conditions of the license.” We consider that this routine condition may be difficult to impose on SLTE owners and operators who may not have ownership interests in common infrastructure in the submarine cable system and may instead hold interests in a fiber, capacity, or spectrum that they must light themselves. Should we adopt a routine condition requiring that SLTE owners and operators must maintain de jure and de facto control of the SLTE? We seek comment on other alternatives that we should consider.

30. In the Report and Order, we adopt routine conditions for existing licensees and future licensees with regard to cybersecurity and physical security risk management, the Covered List, and foreign adversary-related disclosures and prohibitions. We seek comment on whether to adopt these new routine conditions for SLTE owners and operators. For example, should we adopt routine conditions requiring all SLTE owners and operators to certify that they have created, updated, and implemented a cybersecurity and physical security risk management plan and to certify that they will not add to the submarine cable systems, covered equipment or services that are currently identified or newly identified in the future? We seek comment on whether to require SLTE owners and operators to disclose whether or not their submarine cable systems use equipment or services identified on the Covered List. Consistent with the proposal under section IV.B.1.-2. of this FNPRM, we also seek comment on whether to require an applicant for a cable landing license to certify, as a condition of the potential grant of an application, that it will not use any equipment in the operation of the submarine cable system that is produced or provided by any entity owned by, controlled by, or subject to the jurisdiction or direction of a foreign adversary, as defined in § 1.70001(g). Should we also require this certification if an entity seeks to own or operate new SLTE on any current or future submarine cables landing in the United States?

31. In the Report and Order, we also adopt routine conditions to ensure we receive timely updates from licensees when there are certain changes requiring the Commission's attention. Consistent with those adopted routine conditions, we propose and seek comment on adopting the following additional routine conditions for all SLTE owners and operators. We propose that SLTE owners and operators must file a notification updating the Commission within thirty (30) days of any change in: (1) the point of contact of the SLTE owner and operator; (2) the name of the SLTE owner and operator or the submarine cable system; (3) ownership of the SLTE owner and operator resulting in the entity becoming owned by, controlled by, or subject to the jurisdiction or direction of a foreign adversary, as defined in § 1.70001(g), to the extent such change does not require prior Commission approval under our rules; and (4) location of SLTE such as a change of address or coordinates of the SLTE. We seek comment on whether any SLTE owners or operators should be exempt from these routine conditions. We seek comment on whether there are any other changes that the Commission should be aware of and what method of reporting would be the least burdensome to SLTE owners and operators while ensuring that the Commission is timely notified of important new or updated information. We seek comment on whether there should be any exceptions to the (30) day requirement.

32. Lastly, we seek comment on whether to adopt any other new rules applicable to SLTE owners and operators, or apply any other existing rules to such entities. Should SLTE owners and operators be subject to certain certification requirements such as cybersecurity certifications? Should we attach additional routine conditions to the blanket license for SLTE owners and operators that would require certain notifications to the Commission? Should the Commission be aware if there is a change in the third-party entity that operates the SLTE to the extent the SLTE owner itself does not operate the SLTE? We seek comment on whether there are national security and law enforcement concerns that we should consider in adopting rules that may be applicable and warranted in the case of SLTE owners and operators. Additionally, we seek comment on whether SLTE and/or SLTE owners and operators are more vulnerable to physical exploitation or attack by foreign adversaries, given their presence on land. Are there are additional measures we should require of SLTE owners and operators to ensure physical security of SLTE and the submarine cable system?

4. SLTE Owner and Operator Foreign Adversary Annual Report

33. Similar to the Foreign Adversary Annual Report that we adopt in the Report and Order, we propose to adopt an annual reporting requirement for existing SLTE owners and operators that meet any of the criteria below (SLTE Foreign Adversary Annual Report). We propose a tailored approach under which SLTE owners and operators that do not meet the foreign adversary criteria will not be subject to such reporting requirements. Instead, we propose to limit the reporting requirements to SLTE owners and operators that meet our foreign adversary criteria and thus present potential national security and law enforcement concerns. To the extent SLTE owners and operators demonstrate any of the proposed criteria, it would be indicative of heighted national security and law enforcement concerns and warrant providing relevant information to the Commission on a consistent basis.

34. We propose that SLTE owners and operators that meet one or more of the following criteria must submit an SLTE Foreign Adversary Annual Report to the Commission on an annual basis:

(1) That is owned by, controlled by, or subject to the jurisdiction or direction of a foreign adversary, as defined in § 1.70001(g);

(2) That is identified on the Covered List that the Commission maintains pursuant to the Secure Networks Act; ¹

¹ Pursuant to sections 2(a) and (d) of the Secure and Trusted Communications Networks Act, and §§ 1.50002 and 1.50003 of the Commission's rules, the Public Safety and Homeland Security Bureau (PSHSB) publishes a list of communications equipment and services that have been determined by one of the sources specified in that statute to pose an unacceptable risk to the national security of the United States or the security and safety of United States persons (“covered” equipment and services). See Secure and Trusted Communications Networks Act of 2019, Public Law 116-124, 133 Stat. 158 (2020) (codified as amended at 47 U.S.C. 1601-1609 (Secure Networks Act); see also 47 CFR 1.50002 and 1.50003; Federal Communications Commission, List of Equipment and Services Covered by Section 2 of the Secure Networks Act, https://www.fcc.gov/supplychain/coveredlist (last updated June 5, 2025) (List of Covered Equipment and Services). An entity is placed on the Covered List based on a determination made by, among others, an appropriate national security agency that the entity's equipment and/or services pose an unacceptable risk to the national security of the United States or the security and safety of United States persons pursuant to the Secure and Trusted Communications Networks Act of 2019. See Secure Networks Act. See also 47 CFR 1.50000 et seq.; List of Covered Equipment and Services.

(3) That has purchased, rented, leased, or otherwise obtained equipment or services on the Commission's Covered List and is using in the submarine cable infrastructure;

(4) Whose authorization, license, or other Commission approval, whether or not related to operation of a submarine cable, was denied or revoked and/or terminated or is denied or revoked and/or terminated in the future on national security and law enforcement grounds, as well as the current and future affiliates or subsidiaries of any such entity; and/or

(5) The submarine cable system for which the SLTE owner and operator is licensed to operate in the United States lands in a foreign adversary country or the SLTE is located or operated from a foreign adversary country, as defined in § 1.70001(f).

The Commission must be able to receive on a regular basis information necessary to ascertain foreign adversary control or ownership of SLTE owners and operators, which is directly relevant to the Commission's oversight role of cable landing licensees. We propose to adopt a requirement for SLTE owners and operators, that meet one or more of the criteria described above, to provide the SLTE Foreign Adversary Annual Report on an annual basis. This will ensure that the Commission has the information it needs to timely monitor and continually assess evolving national security and other risks.

35. The Commission currently does not know the identity of every single owner and operator of SLTE. In the Report and Order, the Commission adopted a one-time information collection for the purpose of ascertaining the identities of SLTE owners and operators and location information of the SLTE. We intend to use the information collected to better understand the size of this category of potential licensees so that we can regulate in a reasonably-tailored manner. At this time, however, the Commission also has incomplete information regarding SLTE owners and operators that are owned by, controlled by, or subject to the jurisdiction or direction of a foreign adversary, as defined in § 1.70001(g). We propose to require SLTE owners and operators to self-identify and fulfill the reporting requirements for the SLTE Foreign Adversary Annual Report.

36. Content of SLTE Foreign Adversary Annual Report. For existing SLTE owners and operators that meet the above criteria, we propose to require them to file the STLE Foreign Adversary Annual Report that must include the following information that is current as of thirty (30) days prior to the date of the submission: (1) the information of the SLTE owner and operator as required in § 1.70005(a) through (d), (g), (j)(1); (2) the location(s) of the SLTE(s) that the SLTE owner and operator owns or operates; (3) identify and describe whether the SLTE(s) is managed or operated by a third party; (4) identify and describe whether the SLTE owner and operator leases, sells, shares, or swaps fiber, capacity, or spectrum on a Commission-licensed submarine cable system, including the name of the specific submarine cable system; and (5) certifications as set forth under § 1.70006. We tentatively conclude that requiring this SLTE Foreign Adversary Annual Report will improve the Commission's oversight of certain high-risk SLTE owners and operators. We further propose that SLTE owners and operators must provide a copy of the Foreign Adversary Annual Report directly to the Committee at the time of filing with the Commission. We seek comment on this. In an effort to ease burdens on SLTE owners and operators that do not meet the above criteria, we seek comment on whether to adopt routine conditions to ensure SLTE owners and operators provide updated information to the Commission as circumstances change.

37. We seek comment on whether an entity that meets one or more of the criteria to file a Foreign Adversary Annual Report and an SLTE Foreign Adversary Annual Report (as both a licensee under § 1.70003(a) or (b) and an SLTE owner and operator) should file both reports every year. If both reports should be required, what timing or reporting deadlines should we consider? Should such entity be permitted to seek a waiver of a requirement to file the SLTE Foreign Adversary Annual Report if it incorporates necessary information about its SLTE ownership and location in the Foreign Adversary Annual Report? Should the Commission instead use a single form for both the SLTE Foreign Adversary Annual Report and the Foreign Adversary Annual Report and require the filer to indicate which annual report it is submitting? We seek comment on our proposed approach and whether there are any other approaches that would reduce burdens on licensees.

B. New Applicant Certifications and Routine Conditions

38. Below, we propose to further amend our newly adopted rules by adopting new certification requirements for submarine cable applications and new routine conditions. Generally, we propose to require applicants for a cable landing license or modification, assignment, transfer of control, or renewal or extension of a cable landing license, to certify in their application that they will comply with all of the routine conditions set out in our rules, as amended. We seek comment on these proposals and any burdens on applicants and licensees.

1. Use of Foreign Adversary Entity Equipment

39. We seek comment on whether to require an applicant for a cable landing license to certify, as a condition of the potential grant of an application, that it will not use any equipment in the operation of the submarine cable system that is produced by any entity owned by, controlled by, or subject to the jurisdiction or direction of a foreign adversary, as defined in § 1.70001(g). We propose that notifications of pro forma assignments and transfers of control involving cable landing licenses that are granted after the effective date of this Report and Order and FNPRM must contain a certification that the assignee or the licensee subject to the transfer of control will not use any equipment in the operation of the submarine cable system that is produced by any entity owned by, controlled by, or subject to the jurisdiction or direction of a foreign adversary, as defined in § 1.70001(g). As the Committee notes, in its “experience, foreign adversaries use a host of seemingly innocuous corporate entities to advance their strategic goals,” while “[t]he FCC's `Covered List' is limited and identifies only a handful of those entities.” The Committee therefore offers an option, which we propose to adopt, “going beyond lists [of entities], and instead requir[ing] licensees to certify that they will not use vendors for equipment or services who meet certain qualifications found in other existing national security related regulations.” After all, “static lists can be too rigid to account for the full spectrum of actors that may pose risks.” As the Committee suggests, “the Commission could require licensees to certify that they will not use vendors for equipment or services who meet the definition of a `person owned by, controlled by, or subject to the jurisdiction or direction of a foreign adversary' found in the Department of Commerce's Information and Communications Technology Services rule, 15 CFR 791.2.” Given our reliance on this definition in this Report and Order and in related contexts, we propose to adopt this proposal as to equipment. We seek comment on this proposal.

40. We also seek comment on whether we should apply this certification requirement solely to (1) all equipment; (2) only logic-bearing hardware or software; or (3) only “communications equipment” as defined in § 1.50001(d) of the Commission's rules, which includes most equipment with Bluetooth or Wi-Fi connectivity, as reflected in the 2022 Equipment Authorization Program Report and Order. This proposed certification could provide the Commission with flexibility to mitigate against evolving or unseen threats from foreign adversaries. In addition, we seek comment on whether to codify this requirement as a routine condition of any cable landing license. Should we apply this routine condition to cable landing licenses held by all licensees, or only those licenses that are granted after the effective date of any new applicable rules we adopt in this proceeding? The Cable Landing License Act authorizes the Commission to “withhold or revoke” a license or attach terms and conditions as necessary to serve the statutory purposes, which include promoting national security. Furthermore, the Commission may “grant such license upon such terms as shall be necessary to assure just and reasonable rates and service in the operation and use of cables so licensed,” and we believe that all cable landing licenses granted to date have been understood as being subject to the Commission's reservation of regulatory authority. The Commission tentatively concludes that it would have the legal authority to apply such requirements to all licenses, even those granted prior to the adoption of new rules. We seek comment on this tentative conclusion.

2. Prohibition on the Use of Foreign Adversary Entity or Entity Identified on the Covered List as Third-Party Service Providers

41. We propose to adopt a routine condition prohibiting the use of certain third-party service providers to ensure the security, integrity, and resilience of submarine cable systems. The operation of a submarine cable system involves many vendors and contractors, and supply chain integrity is an important priority. We propose to prohibit cable landing licensees from using any third-party service provider in the operation of the submarine cable that is (1) an entity owned by, controlled by, or subject to the jurisdiction or direction of a foreign adversary, as defined in § 1.70001(g) of our newly adopted rules, as suggested by the Committee; (2) an entity identified on the Covered List; and/or (3) an entity that can access the submarine cable system from a foreign adversary country, as defined in § 1.70001(f) of our newly adopted rules. We do not apply a strict liability standard, but we expect licensees to conduct substantial due diligence to ensure compliance with FCC requirements. To the extent a licensee conducts substantial due diligence to verify all relevant information and reasonably believes the entity is not owned by, controlled by, or subject to the jurisdiction or direction of a foreign adversary, as defined herein, such licensee would not be subject to enforcement sanctions. We would consider all of the facts and circumstances raised in an individual case and take into consideration the steps a licensee took in conducting substantial due diligence to ensure compliance with the rule. We believe these measures will further protect critical submarine cable infrastructure from vulnerabilities presented by national security threats. We also propose to require applicants for a cable landing license or modification, assignment, transfer of control, or renewal or extension of a cable landing license, to certify in the application that they will not use the aforementioned third-party service providers in the operation of the submarine cable. We also propose that notifications of pro forma assignments and transfers of control involving cable landing licenses that are granted after the effective date of this Report and Order and FNPRM must contain this certification for the assignee or the licensee subject to the transfer of control. We also propose to exempt licensees that are themselves owned by, controlled by, or operated by an entity identified on the Covered List, because the Commission assesses that there are few national security benefits in applying this condition to such licensees, given that such entities have themselves already been determined to produce or provide equipment or services that pose an unacceptable risk to national security.

42. We seek comment on these proposals. What would be the potential impact on licensees that currently use the aforementioned third-party service providers? Will this increase costs for licensees significantly? What is the length of time that licensees would need to choose alternative third-party service providers? Should the Commission provide additional guidance on how licensees can verify whether third-party service providers are owned by, controlled by, or subject to the jurisdiction or direction of a foreign adversary? For example, should the Commission merely require that licensees exercise their reasonable due diligence in detecting whether third-party service providers meet the definition? If so, what actions by licensees would be necessary and sufficient to support their verification? How would the Commission monitor to ensure that licensees will not use prohibited third-party service providers? Should the Commission adopt specific monitoring, auditing, or verification procedures? What should these look like? For example, should the Commission require third-party auditing of licensees? Should the Commission require annual reporting on all of licensees' contracts with third-party service providers? How can the Commission best ensure compliance while minimizing burdens. Does mitigating the risks presented by untrustworthy third-party service providers outweigh any burdens involved in complying with this prohibition? Should we solely prohibit licensees from entering into new or an extension of existing contracts with the aforementioned third-party service providers, or should we also apply this prohibition to existing contracts that licensees currently may have with such third-party service providers? We seek comment on the costs and benefits of implementing this proposal.

43. In the alternative, should we only prohibit licensees from using a narrower category of third-party service providers, and require licensees to report whether or not they use other third-party service providers, including any of the entities discussed above, in the operation of the submarine cable system? Would this approach strike a balance between our objective to mitigate foreign adversary control and interference in critical submarine cable infrastructure and the burdens on licensees? We seek detailed comments on which third-party service providers we should prohibit or which third-party service providers we should allow licensees to simply disclose to the Commission, as well as justification for any proposed approaches. To the extent we incorporate a reporting requirement under this approach, how frequently should we require licensees to disclose their third-party service providers and what additional information should we require licensees to provide so that we have the necessary visibility into potential threats to submarine cable systems? We seek comment on the costs and benefits of any approaches.

44. Exception for Repair and Maintenance. Additionally, we propose an exception to this prohibition where third-party services involve providing repair and maintenance to the wet segment of submarine cables. The Committee noted that if the Commission adopts a broad prohibition on equipment or services produced or provided by entities owned by, controlled by, or subject to the jurisdiction or direction of a foreign adversary, “the Committee acknowledges that the Commission might need to allow carve-outs or waivers to address certain circumstances, such as to allow for timely maintenance or restoration of service in the event of outage.” We propose to simply exempt third-party repair and maintenance services for the wet segment of the cable from the types of third-party services that would be included in this prohibition. We seek comment on this approach. The Commission understands there is heavy industry reliance on Chinese repair and maintenance ships, so not allowing this exception may impose risks of long-term outages. Is this exception necessary, or can industry find vendors for third-party repair and maintenance services without substantial delay, even without this exception? We seek comment on how we should define repair and maintenance services for the wet segment of the cable for the purposes of this exception. Additionally, we seek comment on whether there are other third-party services that we should exempt from the prohibition.

45. Incentivizing the Use of Non-Foreign Adversary Ships and Repair and Maintenance Services. In the event that the Commission adopts this exception, or does not adopt the prohibition at all, we seek comment on ways that the Commission can incentivize the use of non-foreign adversary ships and repair and maintenance services. How can the Commission incentivize use of U.S./non-foreign adversary flagged or crewed repair ships, in lieu of reliance on repair ships flagged or crewed by foreign adversaries? Submarine cables, no matter where they are deployed, “face complex and challenging risks from natural, accidental, and malicious threats.” When a submarine cable experiences a fault, this causes a disruption that can have “immediate and far-reaching effects, given the overwhelming reliance our global communication network has on these systems.” One way to reduce disruption from a cable fault is to increase resiliency to ensure there are many submarine cables deployed that can be used to reroute the traffic to ensure it arrives at its intended destination. Regardless of location, the repairs needed to restore submarine cable service usually require the availability of a specialized repair ship, a cable repair crew that is typically diverse in skill and nationality and may therefore require numerous visas and/or permits due to national cabotage laws, and a window of good weather for the repair work period to ensure safety of the vessel and crew.

46. Submarine cable repair and maintenance services, when conducted by entities subject to the exploitation of foreign adversaries, also present potential opportunities for foreign adversary sabotage, interference, or surveillance of U.S. submarine cables. A recent report from the Center for Strategic and International Studies noted, “the overreliance on Chinese repair ships due to limited alternatives in the marketplace is another vulnerability if, during a time of military conflict, the Chinese government prohibits access to its repair ships and subsea cables are left damaged without timely repair.” Cable repair ships are in limited supply, and as a result, this is a growing stressor to the submarine cable industry. Approximately 22 such ships in the world are dedicated solely to repair, of which only two are U.S.-flagged, and that fleet is aging. If the two U.S.-flagged vessels are unavailable, “the United States may have to rely on ships outside of its trusted vendor networks, which could introduce security concerns if the ship operators are” owned by, controlled by, or subject to the jurisdiction of direction of a foreign adversary, as defined in § 1.70001(g) of our newly adopted rules. We seek further information regarding how many existing repair ships are in the trusted vendor network, i.e., outside the ownership, control, jurisdiction, or direction of a foreign adversary.

47. We also seek comment on how the Commission may support or promote the expansion of additional U.S./non-foreign adversary repair ships. Should the Commission also use its submarine cable licensing authority to promote the restoration of U.S. shipbuilding capacity, thus helping to facilitate the recently-announced “policy of the United States to revitalize and rebuild domestic maritime industries and workforce to promote national security and economic prosperity”? Should the Commission, for example, impose similar requirements for ships that engage in cable repair and maintenance as the Merchant Marine Act of 1920, better known as the Jones Act, imposes on ships that transport cargo between American ports? Should the Commission also give priority to allied-built or owned ships? If so, how should the Commission define “allied”? Should the Commission rely on the State Department's list of U.S. treaty allies? Should the Commission rely on some combination of ownership, location of the ship was built in, and citizenship of the crew members? Should the Commission instead simply distinguish between those ships owned by, controlled by, or subject to the jurisdiction or direction of a foreign adversary as defined in § 1.70001(g) of our newly adopted rules, and those ships that are not? To what extent should the Commission consider broader industrial policy goals, alongside its traditional role in protecting the security of submarine cable infrastructure?

3. Prohibition From Entering Into IRU and Leasing Capacity Arrangements With Entities Identified on the Covered List

48. To further protect U.S. communications networks from national security and law enforcement threats, and consistent with our actions today, we seek comment on adopting a routine condition that would prohibit cable landing licensees from entering into new or an extension of existing arrangements for IRUs or leases for capacity on submarine cable systems landing in the United States, with any entity identified on the Covered List. In the Report and Order, we adopt a routine condition that prohibits licensees from entering into new or an extension of existing arrangements for IRUs or leases for capacity on submarine cable systems landing in the United States, where such arrangement for IRUs or lease for capacity would give an entity that is owned by, controlled by, or subject to the jurisdiction or direction of a foreign adversary, as defined in § 1.70001(g), the ability to install, own, or manage SLTE on a submarine cable landing in the United States. We believe there are additional national security and law enforcement risks if cable landing licensees enter into such arrangements with entities identified on the Covered List. The entities identified on the Covered List have been found to produce or provide equipment and services that have been deemed to pose an unacceptable risk to the national security of the United States or the security and safety of United States persons. We also seek comment on whether to require applicants for a cable landing license or modification, assignment, transfer of control, or renewal or extension of a cable landing license, to certify in the application that they will not enter into new or extension of existing arrangements for IRUs or leases for capacity on submarine cable systems landing in the United States, with any entity identified on the Covered List.

49. This approach is consistent with the actions taken today to prohibit the use of covered equipment and services in new submarine cable systems, to apply a disqualifying condition that will presumptively preclude the grant of a cable landing license filed by any applicant that is identified on the Covered List, and to require existing licensees to certify they will not add in their submarine cable systems any equipment or services currently included on the Covered List or any equipment or services subsequently added to the Covered List. We seek comment on whether this routine condition should be subject to any exception granted by the Commission. Should we allow a licensee to petition the Commission for waiver of the condition? To the extent we allow a licensee to petition for a waiver, we propose that any waiver would be granted only to the extent the licensee demonstrates by clear and convincing evidence that a new or extension of an existing arrangement with an entity identified on the Covered List presents no national security nor other threats and would serve the public interest.

4. Notification of Change of Address or Coordinates

50. We also propose to require licensees to notify the Commission of any change of address or geographic coordinates concerning information provided under § 1.70005(e)(7) and (f), within thirty (30) days of the change. In the Report and Order, we adopt § 1.70005(e)(7) and (f) requiring an applicant for a cable landing license or modification, assignment, transfer of control, and renewal or extension of a license to provide detailed geographic information about the submarine cable system in the application, including a map and geographic data in generally accepted GIS formats that specifies the location of information described under 1.70005(e)(7) such as each beach manhole, cable landing station, PFE, SLTE, NOC and backup NOC, and SOC and backup SOC, if distinct from the NOC, and the route position list including the wet segment of the submarine cable system. Consistent with this application requirement, we propose to adopt a routine condition requiring a cable landing licensee to notify the Commission within thirty (30) days of any change with respect to any of the information required under § 1.70005(e)(7) and (f). We propose to require licensees to submit a specific description of the updated information, including an updated map and geographic data in generally accepted GIS formats. We propose to delegate authority to OIA, in coordination with OEA, to determine the specific file formats and data fields which will be collected. Consistent with our action in the Report and Order, we will provide confidential treatment of the exact location information.

5. Notification of Intent of Non-Renewal of License

51. The Commission currently does not have a formal process, other than outreach to individual licensees, to confirm whether a licensee intends to renew a cable landing license that is nearing the date of expiration. We propose to adopt a routine condition requiring a licensee to notify the Commission within sixty (60) days prior to the date of license expiration if the licensee does not intend to renew or extend the license. If a licensee has already submitted an application to renew or extend the license or requested an STA to continue operating a submarine cable system, this routine condition will not be applicable as such licensee has expressed an intent to renew or extend the license. Regardless of the timing of any notice of intent not to renew a license, all rights under the license shall terminate upon expiration of the license term unless the licensee has previously filed a renewal application or request for an STA.

6. Notification of Submarine Cable System Retirement

52. We propose to adopt a routine condition requiring a cable landing licensee to notify the Commission within sixty (60) days prior to any retirement of its submarine cable system. Our rules require a licensee to notify the Commission within 30 days of the date the cable is placed into service, whereupon the license will expire 25 years from the in-service date. However, the Commission's rules do not require a licensee to notify the Commission if the submarine cable will be retired and taken out of service. It is important that the Commission maintain up-to-date records of the operational status of licensed submarine cable systems for national security and emergency preparedness and response purposes (for example, in the event of a natural disaster or conflict) and to verify that a licensee is in compliance with Commission rules and the terms of its license. We seek comment on this proposal and whether we should require a licensee to provide any additional information in such notification.

7. Change in Foreign Adversary Ownership

53. We seek comment on whether we should adopt a routine condition requiring cable landing licensees to submit a certification within thirty (30) days of any changes in the licensee's status (e.g., ownership, change in board seats, etc.) that results in the licensee becoming owned by, controlled by, or subject to the jurisdiction or direction of a foreign adversary, as defined in § 1.70001(g), to the extent such change does not require prior Commission approval under our rules.

8. Change to List of Foreign Adversary Countries

54. We seek comment on whether we should adopt a routine condition requiring cable landing licensees to submit a foreign adversary certification within thirty (30) days of any new additions to the list of foreign adversaries identified in the Department of Commerce's rule, 15 CFR 791.4, or the removal of any countries from this list. Specifically, we seek comment on whether to require licensees to submit a certification that they are or are not owned by controlled by, or subject to the jurisdiction or direction of the foreign adversary newly identified in the Department of Commerce's rule, 15 CFR 791.4. Alternatively, should we only require licensees to submit a certification acknowledging the new addition to the list of foreign adversaries identified in the Department of Commerce's rule, 15 CFR 791.4?

9. Change to the Commission's Covered List

55. We propose to adopt a routine condition that requires licensees, irrespective of when the license was granted, to certify, within sixty (60) days of a Federal Register publication announcing any new addition of equipment or services to the Covered List, if they use such Covered List equipment or services in their respective submarine cable system and a brief description of how such equipment or services are used. Is 60 days the right length of time? Should we instead adopt a longer or shorter time length? In the Report and Order, we adopt a routine condition for Covered List equipment and services for licenses granted after the effective date of the new rules. In this FNPRM, we believe that this proposed routine condition for all licensees, irrespective of when the license was granted, would enable the Commission to account for circumstances where the Covered List evolves and is updated to protect against national security threats and to verify the extent to which such threats exist in critical submarine cable infrastructure. In the alternative, should we require all licensees to report annually if they use any Covered List equipment or services, including any equipment or services newly added prior to the annual reporting deadline? For example, would changes to the Commission's Covered List published in the Federal Register before the annual reporting deadline be an appropriate way to define newly added Covered List equipment or services? Should we consider a fixed annual reporting deadline? We seek comment on this approach. To the extent we adopt a certification requirement or an annual reporting requirement, we seek comment on whether to also require licensees to disclose each covered equipment or services that they use in the submarine cable system. What type of information disclosure should we require about the Covered List equipment or service from licensees? Should we require more detailed information? We seek comment on these approaches.

56. This is a continuation of the Report and Order adopted today to collect from licensees information about Covered List equipment or services on their respective submarine cable and to certify as to their use of Covered List equipment or services on their respective cable system. Because the information collection or certification will be based on known information as of the time licensees submit these materials, here, we seek comment on our approach to maintain visibility and awareness of Covered List equipment or services used in the licensed submarine cables after there are changes to the Covered List. The potential for a national security risk or threat from newly added entries to the Commission's Covered List in the future may be great and we seek comment on this approach or other approaches to mitigate against these potential risks or threats. Moreover, we seek comment on whether the routine condition should require a licensee to disclose if the licensee does not use the equipment or service that is newly added to the Covered List and if so, whether the licensee should be required to certify that it will not use the equipment or service in the future.

10. Sharing Information From Applications With Federal Agencies

57. We seek comment on adopting a rule which would allow the Commission to share with relevant federal government agencies, including the Committee, information submitted in an application for a cable landing license or modification, assignment, transfer of control, or renewal or extension of a license on a confidential basis without the pre-notification requirements of § 0.442(d) of the Commission's rules. We seek comment, for example, on sharing such information required in § 1.70005 and other rules that reference § 1.70005. Under this approach, the Commission would be able to share the confidential information with federal agencies that have a legitimate need for the information consistent with their functions without the delay attendant to providing parties an opportunity to object to the sharing. The sharing of confidential information would, however, continue to be subject to the requirement that each of the other federal agencies comply with the confidentiality protections applicable both to the Commission and the other agencies relating to the unlawful disclosure of information, and we would provide notice to the parties whose information is being shared.

58. We tentatively find that Executive Order 13913 provides a basis to share such information with the Committee by establishing that the members and advisors of the Committee have a legitimate need for such information. The policy of Executive Order 13913 is to ensure the “[t]he security, integrity, and availability of the United States telecommunications networks [that] are vital to United States national security and law enforcement interests.” Further, in this regard, Executive Order 13913 authorizes the Committee to review not only license applications but also existing licenses. We seek comment on this tentative conclusion.

C. Presumptively Exempting Applications From Referral to the Executive Branch Agencies

59. We propose adopting a national security standard that would exclude a submarine cable application from Commission referral to the Executive Branch agencies, if all of the qualifications are met that will ensure the security, integrity, and resilience of the submarine cable system. We also note that the Commission would retain the discretion to refer a submarine cable application to the Executive Branch agencies for review for national security, law enforcement, foreign policy, and/or trade policy concerns as circumstances warrant. We seek comment on whether we should establish further guidance on when we will exercise such discretion. We believe that reducing the number of applications that are referred to the Committee would reduce burdens on applicants and enable the Commission and the Committee to prioritize resources on reviewing foreign adversary applications that present significant national security and law enforcement risks warranting closer scrutiny and will allow for expedited review of applications generally. We will continue to work closely with the Committee to assess how we can reduce the number of applications that are referred to the Committee and to streamline the review of those applications that are referred to the Committee, while taking into consideration the U.S. government's equities in national security and law enforcement.

60. Currently, § 1.40001 of the rules states that “[t]he Commission will generally refer to the [Executive Branch] applications filed for . . . submarine cable landing license[s] as well as an application[s] to assign, transfer control of, or modify those authorizations and licenses where the applicant has reportable foreign ownership . . . .” Subject to certain exceptions, including the presumptive disqualifications that we adopt today, we currently refer submarine cable applications where an applicant has a foreign owner that directly or indirectly owns 10% or more of the equity interests and/or voting interests, or a controlling interest, of the applicant. The Commission received several comments raising concerns about the lengthy duration of the submarine cable licensing process and encouraging the Commission to use the existing streamlining process and to exercise its discretion in determining which applications to refer to the Committee.

61. The Commission tentatively concludes that extensive delays to submarine cable applications that do not threaten national security or law enforcement interests are not in the public interest. Such delays impose economic costs without national security benefits. Furthermore, not only do such delays not benefit national security; in fact, they may undermine national security by deterring investment in submarine cables and thus reducing the resilience of America's submarine cable network. This is not consistent with the America First Investment Policy or the goals of the Commission. We seek comment on whether this analysis is correct.

62. Specifically, we propose to adopt a national security standard that is a list of qualifications for a submarine cable application—including an application for a cable landing license or modification, assignment, transfer of control, or renewal or extension of such license—to qualify the applicant for exemption from Commission referral to the Committee. We seek comment on the list of qualifications and whether there are other standards that we should adopt to ensure the applicant has met qualifications to ensure the national security of the United States if its application is granted. We propose to require applicants to certify to all of the qualifications below to enable the Commission to verify whether or not the application qualifies for exclusion from Commission referral to the Committee. We propose that our determination of whether an applicant meets each qualification would be considered on a case-by-case basis and in light of the relevant facts and circumstances. We are particularly interested in comments from both the affected industry and the Committee on what qualifications would serve the public interest and protect national security. Additionally, we seek comment on the impact of the Committee's application and license review prioritization based on section 3(a) of Executive Order 14117 on our proposed rules and interaction with the Committee.

1. Recurring Applicants in Good Standing

63. We propose that, to presumptively qualify for exemption, an applicant must be a licensee of a submarine cable licensed by the Commission and has operated its licensed submarine cable(s) without any incident. An applicant in good standing would be, for example, one that has complied with the terms of the license(s) and has no pending or adjudicated enforcement action by the Commission and/or national security, law enforcement, or other concerns brought to the Commission's attention in the course of operating the submarine cable(s) and has no history of false statements or certifications in its dealings before the Commission related to its cable landing license(s). For instance, should we consider that an application meets this qualification if there was no referral of any issue to the Commission's Enforcement Bureau and/or no issuance of a Letter of Inquiry or subpoena at any point in the history of the cable landing license(s) or within a certain timeframe? What would be an appropriate standard or timeframe to ensure that the applicant has demonstrated good standing with the Commission with respect to its licensing obligations in the past? We seek comment on an appropriate timeframe in assessing any history of incidents involving a licensee's operation of its submarine cable.

64. We also seek comment on other incidents, or lack thereof, that we should consider for purposes of assessing an applicant's qualification for exclusion from referral. We note that several commenters support expediting review for applicants whose prior applications were approved, and propose relying on certifications in conjunction with a streamlined process for a “frequent filer.” In considering the record, we seek further comment on whether an application should qualify for exclusion from referral if a prior submarine cable application filed by the applicant was recently cleared by the Executive Branch agencies, including the Committee, and granted by the Commission. For instance, should we consider whether a prior application that was filed by the same applicant was cleared by the Executive Branch agencies, with or without mitigation, within the past 18 months from the filing of a new application? Does the timeframe of 18 months following any clearance by the Executive Branch agencies of such prior application sufficiently account for changed circumstances and an evolving national security and law enforcement environment? Should the timeframe be shorter or longer than 18 months? Should we also consider whether the applicant and/or its existing submarine cable system have no reportable foreign ownership, or no new reportable foreign ownership, as of the Executive Branch agencies' most recent review? We seek comment on these and any other considerations.

65. We seek comment on how we should apply this qualification for recurring applicants in good standing where an applicant is or has previously been a part of a consortium. For example, if multiple joint licensees on a cable landing license hold equal ownership and controlling interests in the submarine cable and operated it without any incident, and one of the licensees files an application for a new cable landing license, should we consider that the applicant has met this standard? Should we require that a licensee must hold a specific threshold of ownership and/or controlling interests in its licensed submarine cable to meet this standard for any submarine cable application it subsequently files? How should we apply this standard if an applicant(s) is a joint licensee of another submarine cable where one of the joint licensees holding less than a majority of the ownership and controlling interests violated the Commission's rules or a condition of the license in the course of operating the submarine cable? We seek comment generally on how we should apply a “in good standing” standard where an application is filed by multiple parties, such as an application for a new cable landing license filed by joint applicants or an application filed by any or all of the joint licensees of a submarine cable. To the extent multiple parties file an application, if one applicant meets the qualification but others do not, how should we apply the “in good standing” standard with respect to those other applicants? Are there other combinations of scenarios that we should consider?

2. No History of Character Condition Violations

66. We propose that, to presumptively qualify for exemption, an applicant must have consistently demonstrated the requisite character qualifications. Specifically, should we consider an applicant qualifies for the exclusion if in the last 20 years it has not (1) materially violated the Cable Landing License Act where the violation (a) was not remediated with an adjudication involving a consent decree and/or compliance plan, (b) resulted in a loss of Commission license or authorization, or (c) was found by the Commission to be intentional; (2) committed national security-related violations of the Communications Act or Commission rules as identified in Commission orders, including but not limited to violations of rules concerning the Covered List that the Commission maintains pursuant to the Secure Networks Act; (3) made materially false statements or engaged in fraudulent conduct concerning national security or the Cable Landing License Act; (4) been subject to an adjudicated finding of making false statements or engaging in fraudulent conduct concerning national security before another U.S. government agency; or (5) materially failed to comply with the terms of a cable landing license, including but not limited to a condition requiring compliance with a mitigation agreement with the Executive Branch agencies, including the Committee, where the violation (a) was not remediated with an adjudication involving a consent decree and/or compliance plan, (b) resulted in a loss of Commission license or authorization, or (c) was found by the Commission to be intentional? We seek comment on this approach.

3. Enhanced Cybersecurity Standards

67. We propose that, to presumptively qualify for exemption, an applicant must submit a cybersecurity certification consistent with §§ 1.70005(m) and 1.70006(c) of our newly adopted rules, which sets out the requirements of an initial applications for a cable landing license, if such applicant is to qualify for exclusion from Commission referral to the Committee. Should we require a more stringent standard in order to meet this presumptive qualification? Should a requirement of this qualification involve the structuring of a licensee's cybersecurity and physical risk management plans in accordance with higher cybersecurity standards such as the NIST CSF, and a set of established cybersecurity best practices, such as the standards and controls set forth in the CISA CPGs or the CIS Controls? We seek comment on what other cybersecurity standards would be reasonable to require that a licensee implement, if any submarine cable application that it subsequently files is to qualify for exclusion from referral.

4. Physical Security Standards

68. We propose that, to presumptively qualify for exemption, an applicant must certify that it will meet appropriate physical security standards, such as taking all practicable measures to physically secure the submarine cable system (including the cable landing stations, beach manholes and related sites, and SLTEs), if such applicant is to qualify for exclusion from Commission referral to the Committee. We also propose that, in order to qualify for exclusion from referral, applicants must certify they will ensure that individuals who have access to the submarine cable system (including cable landing stations, beach manholes and related sites, and SLTEs) will be screened in accordance with the applicant's security policies. In addition, we propose that, in order to qualify for exclusion from referral, the applicant must certify that it will exclude any company personnel, including contractors, that is a citizen of a foreign adversary country, as defined in § 1.70001(f) of our newly adopted rules, from physical or logical access to the submarine cable system. Finally, we seek comment on the physical security requirements and best practices (e.g., perimeter security, physical barriers, surveillance, environmental controls, security personnel, audit and vulnerability assessments, security awareness training, etc.) that should be required in order for an applicant to meet this presumptive qualification. What other physical security standards should we require in order for an application to qualify for exclusion from referral?

5. No Logic-Bearing Hardware or Software Component Produced by Persons Owned by, Controlled by, or Subject to the Jurisdiction or Direction of a Foreign Adversary

69. We propose that, to presumptively qualify for exemption, an applicant must certify that it will not include any logic-bearing hardware (e.g., readable, writable, and/or programable hardware components) or software in the submarine cable system that is produced by any entity owned by, controlled by, or subject to the jurisdiction or direction of a foreign adversary, as defined in § 1.70001 of our newly adopted rules, in order to qualify for exclusion from Commission referral to the Committee. We seek comment on whether we should define what constitutes logic-bearing hardware or software, and if so, what components deployed in a submarine cable system would constitute logic-bearing hardware or software. Alternatively, should we use a slightly narrower definition of “communications equipment or services,” as proposed above?

6. No Ownership Below 5% Is Held by Persons Owned, Controlled by, or Subject to the Jurisdiction or Direction of a Foreign Adversary

70. In the Report and Order, we retain the requirement that an entity owning or controlling a 5% or greater interest in the submarine cable system and using the U.S. points of the cable system, and any entity that controls a U.S. cable landing station, must be an applicant for a cable landing license. We propose that, to presumptively qualify for exemption, an applicant must certify that no entity holding less than 5% interest in the cable system is owned by, controlled by, or subject to the jurisdiction or direction of a foreign adversary, as defined in § 1.70001(g) of our newly adopted rules. An applicant would meet this standard if no owner of the submarine cable is owned by, controlled by, or subject to the jurisdiction or direction of a foreign adversary, as defined in § 1.70001(g). We seek comment on this proposal. Should we also require that an applicant meets this qualification if any entity that owns the U.S. cable landing station also is not owned by, controlled by, or subject to the jurisdiction or direction of a foreign adversary, as defined in § 1.70001(g)? What other qualifications should we adopt to ensure the cables do not have foreign adversary ownership or control of the infrastructure?

7. Expansion of IRUs and/or Leases of Capacity Prohibitions

71. In the Report and Order, we adopt a routine condition that prohibits cable landing licensees from entering into new or an extension of existing arrangements for IRUs or leases for capacity on submarine cable systems landing in the United States, where such arrangement for IRUs or lease for capacity would give an entity that is owned by, controlled by, or subject to the jurisdiction or direction of a foreign adversary, as defined in § 1.70001(g) of our newly adopted rules, the ability to install, own, or manage SLTE on a submarine cable landing in the United States. We propose that, to presumptively qualify for exemption, an applicant would need to certify that it will prohibit its customers from entering into new arrangements or extending existing arrangements that would be prohibited for the applicant itself. The applicant would have to adopt contractual provisions that prohibit its buyers or lessors from selling to, leasing out, or swapping the capacity with an entity that is owned by, controlled by, or subject to the jurisdiction or direction of a foreign adversary, as defined in § 1.70001(g). We seek comment on this standard.

72. To what extent should we consider whether the capacity sold or leased out by an applicant to another entity is, in turn, sold to, leased out, or swapped with an entity that is owned by, controlled by, or subject to the jurisdiction or direction of a foreign adversary, as defined in § 1.70001(g)? Instead of relying solely on contract terms, should we assess whether applicants have taken measures to enforce any such contractual provisions? Should we also require applicants to file with the Commission copies of any arrangements for IRUs or leases of capacity, and if so, should we treat this information as presumptively confidential?

8. No Interconnection With Foreign Adversary Cables

73. We propose that, to presumptively qualify for exemption, an applicant must certify that the submarine cable system will not connect directly or via a branching unit with a submarine cable owned or operated by an entity that is owned by, controlled by, or subject to the jurisdiction or direction of a foreign adversary, as defined in § 1.70001(g) of our newly adopted rules, or that lands in a foreign adversary country, as defined in § 1.70001(f). We seek comment on whether this qualification should include other types of connections to submarine cable systems that could present national security risks.

9. No Submarine Cable Repair Ships Operated by Foreign Adversaries

74. We propose to require that, in order to qualify for exclusion from Commission referral to the Committee, an applicant must certify that it will not use a ship for submarine cable installation or repair and maintenance of the submarine cable system that is owned or operated by an entity that is owned by, controlled by, or subject to the jurisdiction or direction of a foreign adversary, as defined in § 1.70001(g) of our newly adopted rules, or that is flagged in a foreign adversary country, as defined in § 1.70001(f). We seek comment on whether it is reasonable to require that applicants must meet this qualification in order to qualify for exclusion from referral, or whether restricting the use of such cable installation or repair and maintenance ships would have any adverse impact on owners and operators of submarine cable systems as well as the submarine cable system itself. Alternatively, rather than a prohibition, should we merely require that, an applicant certify that it will implement adequate security measures if it uses any such cable installation or repair and maintenance ships, regardless of whether the ship is operated by an entity that is owned by, controlled by, or subject to the jurisdiction or direction of a foreign adversary, as defined in § 1.70001(g)? We seek comment on how applicants will know if a given ship is restricted. Should we rely on applicants' due diligence, require the Commission publish a white list of permissible ships, or use some other method? We seek comment on ways to ensure that this qualification would not curtail or otherwise adversely impact the ability of submarine cable owners and operators to quickly deploy or repair submarine cable systems connecting to the United States.

10. No Senior Officials Owned by, Controlled by, or Subject to the Jurisdiction or Direction of a Foreign Adversary

75. We propose to require that, to presumptively qualify for exemption, an applicant must certify that no senior official of the applicant or the applicant's parent company(ies) is owned by, controlled by, or subject to the jurisdiction or direction of a foreign adversary, as defined in § 1.70001(g) of our newly adopted rules. For purposes of such requirement, we propose to define a senior official as a board member or executive-level management, such as a Chief Executive Officer or Chief Operating Officer. We seek comment on this proposal. Should we adopt a different definition of “senior official” for purposes of the proposed requirement? Should we only apply this proposed requirement with respect to the board members or executives of the applicant or the applicant's parent company(ies)?

11. Other Standards

76. We seek comment on whether we should also require that, to presumptively qualify for exemption, an applicant must certify to other measures that are common features of national security agreements with the Committee that concern submarine cables. For example, national security agreements often require that licensees provide the Committee with notice for certain third party access to the submarine cable infrastructure. Should we require that, to presumptively qualify for exemption, an applicant must certify that it will not provide any individual or entity that is owned by, controlled by, or subject to the jurisdiction or direction of a foreign adversary, as defined in § 1.70001(g), or that is identified on the Covered List with access to certain parts of the submarine cable system, such as the cable landing station(s), NOC(s), and beach manhole(s)? Which parts of the submarine cable system should we include in such a certification? Should we similarly require certification as to access to sensitive U.S. data or domestic communications? How would we define the data that licensees would be prohibited from sharing? Should we also require applicants to certify that they will adopt personnel screening measures to ensure adherence to these requirements? If we required personnel screening measures, what would such a requirement consist of? National security agreements also often contain requirements around incident and breach reporting. Should we require that, to presumptively qualify for exemption, an applicant must certify that it will report certain incidents or breaches to the Commission, such as cyberattacks, unauthorized access, or service disruptions to the Commission? If we adopted such a standard, how would we define the universe of incidents and breaches that would need to be reported? What would be the deadline for incident or breach reporting? 48 hours? More? Fewer? Would the national security benefits of such a reporting requirement outweigh any burden to licensees of providing these reports? What would be the costs and benefits of all of these proposals?

77. We seek comment generally on whether there are any other standards that the Commission should consider to qualify an application for exemption from Commission referral to the Executive Branch agencies. In the alternative, we seek comment on whether we should not refer any applications to the Executive Branch in light of the strong national security measures we adopt in the Report and Order and further propose in this FNPRM, and whether we should revise § 1.40001 of the rules accordingly.

D. Timeframe for Removing Covered Equipment and Services From Submarine Cable System

78. To further protect U.S. submarine cable networks from national security and law enforcement threats, we seek comment on whether to require existing licensees to remove from their submarine cable system any and all covered equipment or services, within a specified timeframe prior to the expiration of the license. In the Report and Order, we find that covered equipment and services that have been deemed to pose an unacceptable risk to the national security of the United States or the security and safety of United States persons. Accordingly, we take action to prohibit the use of covered equipment and services identified on the Covered List in new submarine cable systems. We also apply a disqualifying condition that will presumptively preclude the grant of a cable landing license filed by any applicant that is identified on the Covered List. Moreover, we require existing licensees to certify that they will not add to their submarine cable systems any current covered equipment or services. However, we believe there remains a critical vulnerability where existing licensees use covered equipment and services in current or future operations of existing submarine cable systems. While we recognize that removal of covered equipment and services from these submarine cable systems may be burdensome to licensees, we believe that allowing the continued use of equipment and services that present unacceptable national security risks is contrary to our objectives to protect this critical U.S. submarine cable networks. We seek comment on this analysis.

79. We seek comment on whether to require a gradual transition away from the use of covered equipment and services in current submarine cable infrastructure, and if so, we seek comment on the appropriate timeframe for the transition. For example, should a requirement to implement a gradual transition away from using covered equipment or services track the remaining term of a cable landing license held by an existing licensee? To the extent an existing licensee seeks to renew or extend a cable landing license upon expiration, we seek comment on whether to require that the licensee must certify that it has removed from the submarine cable system any and all covered equipment or services. In the alternative, should we require such existing licensee to certify that it has a credible plan to remove covered equipment and services within a certain timeframe (e.g., 5 years) and to submit the plan to the Commission? We seek comment on this approach.

80. As an alternative to requiring a transition based on the remaining term of a cable landing license, should we require existing licensees to remove any and all covered equipment or services within a set number of years as of the effective date of any new rule? Is 5 years an appropriate timeframe? Should we adopt a longer or shorter timeframe? What considerations should we review in making a determination about how long to provide for the transition?

81. Foreign Adversary Annual Report. Regardless of whether a transition period or a date certain is employed for removing any and all covered equipment or services from an existing submarine cable system, should we in the meantime require such licensees to file a Foreign Adversary Annual Report until such covered equipment or services have been removed? Specifically, should we add a new criterion to newly-adopted rule, § 1.70017(b), to require an existing licensee “that has purchased, rented, leased, or otherwise obtained equipment or services on the Commission's Covered List and is using in the submarine cable infrastructure” to file a Foreign Adversary Annual Report consistent with § 1.70017? Would this, in addition to ensuring the Commission has the requisite information, create incentives to remove covered equipment? We seek comment on this approach or if there is another manner in which we can monitor licensees that use covered equipment or services.

E. Prioritizing Trusted Technology in Submarine Cable Systems

82. We seek comment on how the Commission can use its authority pursuant to the Cable Landing License Act and Executive Order 10530, to incentivize and encourage the adoption and the use of trusted technologies produced and provided by the United States and its allies, such that “American AI technologies, standards, and governance models are adopted worldwide . . .” How can the Commission leverage the submarine cable licensing regime to “make [the U.S.] the global partner of choice and the standards setter” by “enabl[ing] and encourag[ing] American companies to distribute the American tech stack around the world”? Are there ways we can encourage foreign countries and companies to adopt and use technologies produced and provided by the United States and its allies, as opposed to adopting and using the technologies and produced and provided by foreign adversaries? For example, should the Commission prioritize grants of licenses for submarine cables that land in countries aligned with U.S.-trusted technology standards? Should the Commission prioritize grants of licenses for submarine cables that interconnect to data centers, or other facilities with the necessary infrastructure to support internet traffic exchange, that use trusted technologies, as opposed to technologies produced and provided by foreign adversaries? How should the Commission develop definitions and standards for such a policy?

F. Artificial Intelligence and Submarine Cable Systems

83. We seek comment on the use of artificial intelligence in SLTEs in particular, as well as the use of artificial intelligence generally in the submarine cable system as a whole. According to market forecasts, submarine cable operators will likely incorporate artificial intelligence into SLTEs and submarine cables for various reasons. Artificial intelligence, for example, may play a role in improving the function of the submarine cable, such as improving network planning, intelligent traffic routing, and capacity optimization. Artificial intelligence can also safeguard the submarine cable system through predictive maintenance, physical threat detection, and cybersecurity threat detection. While artificial intelligence brings positive attributes to submarine cable operations, we believe that there are significant national security concerns when artificial intelligence technologies involve foreign adversaries. We seek comment on any national security concerns regarding use of artificial intelligence in submarine cable systems. What are the national security impacts and potential threats posed by incorporating artificial intelligence owned by, controlled by, or subject to the direction or jurisdiction of foreign adversaries? Given that submarine cables are critical infrastructure, should we refer assessment of any national security concerns regarding the use of artificial intelligence in submarine cable systems to the Commission's Communications Security, Reliability, and Interoperability Council (CSRIC) for consideration and recommendations?

G. Additional Measures To Reform and Streamline Rules and Processes

1. Domestic Cables

84. We seek comment on whether under certain circumstances to streamline approval of domestic cables (i.e., those cables that connect one portion of the United States to another portion of the United States, such as a cable connecting the continental United States to the U.S. Virgin Islands). The Commission currently does not evaluate applications—including applications for a cable landing license or modification, assignment, transfer of control, or renewal or extension of a cable landing license, involving domestic cables (domestic cable applications)—differently than those involving international cables. For cables that connect points solely within the United States and its territories and possessions, NCTA endorsed streamlined review for such cable systems and the Alaska Telecom Association proposed “streamlined blanket licensing.”

85. A domestic cable application can present national security concerns even if a domestic cable would only connect points within the United States and would not have foreign landing points. For example, a domestic cable application may involve applicants with foreign ownership or propose to use foreign equipment in the cable system. Indeed, several existing domestic cable systems are subject to mitigation agreements with the Committee. We seek comment on whether the certifications we adopt in the Report and Order are sufficient to resolve any potential national security or law enforcement concerns and obviate the need for review by the Committee. We seek comment on any national security or law enforcement risks posed by domestic cables that the certifications we adopt in the Report and Order may not adequately address.

86. Domestic cable applications are often reviewed by the Committee. We seek comment on reasons why domestic cable applications should undergo review by the Committee and whether the reasons are different than for review of applications involving international cables. If there are national security and law enforcement reasons warranting review by the Committee, are there any mechanisms the Commission and Committee could employ to reduce the time for review of a domestic cable application? Are there any other methods we should consider to streamline review of domestic cable applications in light of the policies adopted in the Report and Order and contemplated elsewhere in this FNPRM? Are there any other submarine cable rules that the Commission should consider modifying or eliminating in the context of domestic cables?

2. Mitigation Agreements

87. We seek comment on how the Commission can and should modify and streamline any existing cable license conditions that were based on previous mitigation agreements once our rules are in effect. We have made significant regulatory changes to address national security concerns and prior mitigation agreements may not have consistent requirements to ensure the safety and security of submarine cables. Should we, for example, modify and streamline any existing license terms that were based on mitigation agreements, which include Letters of Agreements (LOAs) and National Security Agreements (NSAs), to ensure they are in line with the principles behind our new rules adopted in the Report and Order? Should we focus our efforts on modifying license terms based on domestic cable mitigation agreements, such as focusing first on those entered into prior to the effective date of the rules? Should the Commission adopt a procedure that permits licensees of domestic cable systems to attest to the certifications we adopt in the Report and Order in order for the Commission to remove license conditions requiring compliance with a mitigation agreement? Can and should the Commission consider modifying or streamlining all license conditions that were based on mitigation agreements generally? What methods could the Commission employ to provide all licensees the intended benefit of consistent national security requirements? We seek comment on how the Commission can and should modify and streamline any existing license terms based on prior mitigation agreements consistent with the principles articulated in the Report and Order.

3. Other Agencies and Processes That Address Submarine Cables

88. We recognize that the Commission is not the only agency in the Federal Government that interfaces with submarine cable systems. There are other agencies and regulatory processes that rely on submarine cables for many uses, including government contracts, use of submarine cables for commercial service, and/or reliance on submarine cables for critical missions. Some agencies outside of the Commission include those agency members of the Committee, the Committee on Foreign Investment in the United States (CFIUS), and the Defense Priorities and Allocations System (DPAS), among others. We seek comment on what impacts, if any, the Commission's adopted rules in the Report and Order and proposed rules in this FNPRM have on these other agencies, government contracts, and processes generally. We seek comment on whether the Commission should reconsider any proposals to better address the interrelationships among the various agencies and processes that affect submarine cables. Additionally, should we reconsider or revise § 1.70007(c) of our newly adopted rules, which requires that licensees shall at all times comply with any requirements of U.S. government authorities regarding the location and concealment of the cable facilities, buildings, and apparatus for the purpose of protecting and safeguarding the cables from injury or destruction by enemies of the United States? Do the costs of the requirement outweigh the national security and law enforcement benefits?

H. Alternative Definition of “Foreign Adversary” and “Foreign Adversary Country”

89. Subsequent to the issuance of the 2024 Cable NPRM, the Department of Justice issued rules pursuant to Executive Order 14117 (“Preventing Access to Americans' Bulk Sensitive Personal Data and United States Government-Related Data by Countries of Concern”). Those rules defined “country of concern” as, “any foreign government that, as determined by the Attorney General with the concurrence of the Secretary of State and the Secretary of Commerce: (a) Has engaged in a long-term pattern or serious instances of conduct significantly adverse to the national security of the United States or security and safety of United States persons; and (b) Poses a significant risk of exploiting government-related data or bulk U.S. sensitive personal data to the detriment of the national security of the United States or security and safety of U.S. persons.” Furthermore, the rules listed “countries of concern” as China, Cuba, Iran, North Korea, Russia, and Venezuela, identical to the list of foreign adversary countries in our rule, 47 CFR 1.70001(g). Given the relevance of these rules to our efforts to safeguard submarine cables against threats from foreign adversaries, we seek comment on whether we should incorporate this definition and these determinations into our rules. If so, how? For example, should we include in the definition of “foreign adversary country” any country that in the Commerce Department or Justice Department lists? We seek comment on alternative approaches.

I. Costs and Benefits

90. We seek comment on the potential benefits and costs of the proposals discussed throughout this FNPRM. We believe that the rule changes identified in the FNPRM would advance the United States' national security, law enforcement, foreign policy, and trade policy. We expect that these proposals will streamline our rules and processes, and strengthen our oversight of submarine cable systems that reach the United States by increasing the quality and granularity of data and information about these cable systems, including the identity of entities with ownership interests or control of this critical infrastructure.

91. Among the proposals in the FNPRM, we propose concrete steps to build upon the Report and Order and recent proceedings to prevent national security risks from current and potential foreign adversaries, while encouraging the use of trusted technology and measures to further accelerate the buildout of submarine cables. We propose and seek comment on a regulatory framework that would require entities that own or operate SLTEs to become licensees. We propose granting SLTE owners and operators a blanket license, subject to certain exclusions and routine conditions, to reduce burdens to industry and encourage the investment and deployment of submarine cable systems. As a condition of any grant of a blanket license, in addition to the conditions for all licensees, we also propose to require existing SLTE owners and operators that are owned by, controlled by, or subject to the jurisdiction or direction of a foreign adversary, or other relevant criteria, to submit a tailored SLTE Foreign Adversary Annual Report to ensure that the Commission maintains consistent oversight over their operations. In addition, we propose new certifications and routine conditions related to foreign adversaries to further protect submarine cables from national security risks. Moreover, we propose an approach to expedite deployment of submarine cables that connect to the United States by presumptively excluding submarine cable applications from referral to the Executive Branch agencies if they meet certain standards. Finally, we propose and broadly seek comment on additional measures to reform and streamline the submarine cable licensing rules and processes, with the goal of accelerating and enhancing the buildout of submarine cable infrastructure, and seek comment on the costs and benefits of the proposed rules and any alternatives.

92. The benefits of the proposed rules are difficult to quantify, as they extend to our national security and public interest responsibilities. We expect that the rules we propose will allow us to build upon the Report and Order and recent proceedings to prevent current and potential foreign adversary control and interference in submarine cables. Furthermore, our proposals to develop a framework for SLTEs will allow us to mitigate physical and logical access risks to U.S. submarine cable systems. Moreover, we expect our proposed rules to reform and streamline the application process, saving valuable time and resources for licensees who meet national security conditions. We seek comment on the expected benefits of the proposals in the FNPRM.

93. Our estimate of costs should include all of the expected costs that would be incurred as a result of the rules proposed in the FNPRM, including the costs of additional data collection concerning SLTEs, reporting costs, and the costs of enforcing our additional requirements. We note that the annual aggregate cost of the proposed rules described above could vary, depending on the rules adopted. We tentatively conclude that the benefits of establishing the proposed rules—which include the safety and reliability of the submarine cable systems and the protection of national security and law enforcement interests—will be in excess of these costs.

94. We seek comment on the costs that applicants will incur from the new requirements detailed above. We expect that our proposal to expedite applications that meet national security conditions will result in significant cost savings for licensees by reducing the time and resources required to prepare these applications. We seek comment on the estimated cost savings that would accrue if these rules are adopted. We also seek comment on any additional costs on licensees, including on small entities.

IV. Procedural Matters

95. The Commission has also prepared an Initial Regulatory Flexibility Analysis (IRFA) concerning the potential impact of rule and policy change proposals on small entities in the FNPRM. The IRFA is set forth in Appendix D. The Commission invites the general public, in particular small businesses, to comment on the IRFA. Comments must be filed by the deadlines for comments on the FNPRM indicated on the first page of this document and must have a separate and distinct heading designating them as responses to the IRFA.

96. Paperwork Reduction Act. The FNPRM may contain proposed new or modified information collections. The Commission, as part of its continuing effort to reduce paperwork burdens, invites the general public and the Office of Management and Budget (OMB) to comment on any information collections contained in this document, as required by the Paperwork Reduction Act of 1995, 44 U.S.C. 3501-3521. In addition, pursuant to the Small Business Paperwork Relief Act of 2002, 44 U.S.C. 3506(c)(4), we seek specific comment on how we might further reduce the information collection burden for small business concerns with fewer than 25 employees.

97. Ex Parte Presentations-Permit-But-Disclose. The proceeding this FNPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

98. Providing Accountability Through Transparency Act. Consistent with the Providing Accountability Through Transparency Act, Public Law 1189, a summary of this FNPRM will be available on https://www.fcc.gov/proposed-rulemakings.

99. OPEN Government Data Act. The OPEN Government Data Act requires agencies to make “public data assets” available under an open license and as “open Government data assets,” i.e., in machine-readable, open format, unencumbered by use restrictions other than intellectual property rights, and based on an open standard that is maintained by a standards organization. This requirement is to be implemented “in accordance with guidance by the Director” of the OMB. The term “public data asset” means “a data asset, or part thereof, maintained by the Federal Government that has been, or may be, released to the public, including any data asset, or part thereof, subject to disclosure under [the Freedom of Information Act (FOIA)].” A “data asset” is “a collection of data elements or data sets that may be grouped together,” and “data” is “recorded information, regardless of form or the media on which the data is recorded.”

100. Filing Requirements—Comments and Replies. Pursuant to §§ 1.415 and 1.419 of the Commission's rules, 47 CFR 1.415, 1.419, interested parties may file comments and reply comments in response to the FNPRM on or before the dates indicated on the first page of this document. Comments may be filed using the Commission's Electronic Comment Filing System (ECFS). See Electronic Filing of Documents in Rulemaking Proceedings, 63 FR 24121 (1998).

101. Availability of Documents. Comments, reply comments, and ex parte submissions will be publicly available online via ECFS. When the FCC Headquarters reopens to the public, these documents will also be available for public inspection during regular business hours in the FCC Reference Center, Federal Communications Commission, 45 L Street NE, Washington, DC 20554.

102. Further Information. For further information, contact Desiree Hanssen of the Office of International Affairs, at 202-418-0887 or Desiree.Hanssen@fcc.gov.

V. Initial Regulatory Flexibility Analysis

103. As required by the Regulatory Flexibility Act of 1980, as amended (RFA), the Federal Communications Commission (Commission) has prepared this Initial Regulatory Flexibility Analysis (IRFA) of the policies and rules proposed in the FNPRM assessing the possible significant economic impact on a substantial number of small entities. The Commission requests written public comments on this IRFA. Comments must be identified as responses to the IRFA and must be filed by the deadlines for comments specified on the first page of the FNPRM. The Commission will send a copy of the FNPRM, including this IRFA, to the Chief Counsel for Advocacy of the Small Business Administration (SBA). In addition, the FNPRM and IRFA (or summaries thereof) will be published in the Federal Register.

A. Need for, and Objectives of, the Proposed Rules

104. In this FNPRM, we propose to build upon the efforts adopted in the Report and Order to prevent national security risks from current and potential foreign adversaries, while encouraging the use of trusted technology and measures to further accelerate the buildout of submarine cables. We propose to and seek comment on a regulatory framework that would require entities that own or operate submarine line terminal equipment (SLTE), including any that may be small business entities, to become licensees. We propose granting SLTE owners and operators a blanket license, subject to certain exclusions and routine conditions, to reduce burdens to industry and encourage the investment in and deployment of submarine cable systems. As a condition of any grant of a blanket license, in addition to the conditions for all licensees, we also propose to require SLTE owners and operators that are owned by, controlled by, or subject to the jurisdiction or direction of a foreign adversary, or other relevant criteria, to submit a tailored annual report (SLTE Foreign Adversary Annual Report) to ensure that the Commission maintains consistent oversight over their operations.

105. We propose new certifications and routine conditions related to foreign adversaries to further protect submarine cables from national security risks as explained in detail in the FNPRM. For example, we seek comment on whether to require an applicant for a cable landing license to certify, as a condition of the potential grant of an application, that it will not use any equipment in the operation of the submarine cable system that are produced by entities that are “owned by, controlled by, or subject to the jurisdiction or direction of a foreign adversary” as defined in the Report and Order. Another example, we propose to adopt a routine condition prohibiting the use of certain third-party service providers and propose to adopt related certifications, to ensure the security, integrity, and resiliency of submarine cable systems. We also seek comment on adopting a routine condition that would prohibit cable landing licensees from entering into new or an extension of existing arrangements for IRUs or leases for capacity on submarine cable systems landing in the United States, with any entity identified on the Covered List. We propose routine conditions that would require licensees to submit notifications of important changes to the submarine cable system, and seek comment on adopting routine conditions that would require cable landing licensees to submit certifications in the event of changes that result in a licensee becoming owned by, controlled by, or subject to the jurisdiction or direction of a foreign adversary, or changes to the Department of Commerce's list of foreign adversary countries, or changes to the Covered List.

106. We propose an approach to expedite deployment of submarine cables that connect to the United States by presumptively excluding submarine cable applications from referral to the Executive Branch agencies if they meet certain standards. To further protect U.S. submarine cable networks from national security and law enforcement threats, we seek comment on whether to require existing licensees to remove from their submarine cable system any and all covered equipment or services, within a specified timeframe prior to the expiration of the license. We also seek comment on how the Commission can use its authority pursuant to the Cable Landing License Act and Executive Order 10530, to incentivize and encourage the adoption and the use of trusted technologies produced and provided by the United States and its foreign allies. We seek comment on whether under certain circumstances to streamline approval of domestic cables. Finally, we seek comment on the costs and benefits of the proposed rules and any alternatives, including the impact of the proposed rules on small entities and alternative approaches.

B. Legal Basis

107. The proposed action is authorized pursuant to sections 1, 4(i), 4(j), 201-255, 303(r), 403, and 413 of the Communications Act of 1934, as amended, 47 U.S.C. 151, 154(i), 154(j), 201-255, 303(r), 403, and 413, and the Cable Landing License Act, 47 U.S.C. 34-39, and Executive Order No. 10530, section 5(a), (May 12, 1954) reprinted as amended in 3 U.S.C. 301.

C. Description and Estimate of the Number of Small Entities to Which the Proposed Rules Will Apply

108. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA.

109. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or Voice over Internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

110. Computer Infrastructure Providers, Data Processing, Web Hosting, and Related Services. This industry comprises establishments primarily engaged in providing computing infrastructure, data processing services, Web hosting services (except software publishing), and related services, including streaming support services (except streaming distribution services). Cloud storage services, computer data storage services, computing platform infrastructure provision Infrastructure as a service (IaaS), optical scanning services, Platform as a service (PaaS), and video and audio technical streaming support services are included in this industry. Data processing establishments provide complete processing and specialized reports from data supplied by clients or provide automated data processing and data entry services. The SBA small business size standard for this industry classifies firms with annual receipts of $40 million or less as small. U.S. Census Bureau data for 2017 indicate that 9,058 firms in this industry were operational for the entire year. Of this total, 8,345 firms had revenue of less than $25 million. Thus, under the SBA size standard the majority of firms in this industry are small.

111. Competitive Local Exchange Carriers (CLECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local service providers. Of these providers, the Commission estimates that 3,230 providers have 1,500 or fewer employees. Consequently, using the SBA's small business size standard, most of these providers can be considered small entities.

112. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

113. Internet Publishing and Broadcasting and Web Search Portals. This industry comprises establishments primarily engaged in (1) publishing and/or broadcasting content on the internet exclusively or (2) operating websites that use a search engine to generate and maintain extensive databases of internet addresses and content in an easily searchable format (and known as Web search portals). The publishing and broadcasting establishments in this industry do not provide traditional (non-internet) versions of the content that they publish or broadcast. They provide textual, audio, and/or video content of general or specific interest on the internet exclusively. Establishments known as web search portals often provide additional internet services, such as email, connections to other websites, auctions, news, and other limited content, and serve as a home base for internet users. The SBA small business size standard for this industry classifies firms having 1,000 or fewer employees as small. U.S. Census Bureau data for 2017 show that there were firms that 5,117 operated for the entire year. Of this total, 5,002 firms operated with fewer than 250 employees. Thus, under this size standard the majority of firms in this industry can be considered small.

114. Internet Service Providers (Non-Broadband). Internet access service providers using client-supplied telecommunications connections (e.g., dial-up ISPs) as well as VoIP service providers using client-supplied telecommunications connections fall in the industry classification of All Other Telecommunications. The SBA small business size standard for this industry classifies firms with annual receipts of $40 million or less as small. For this industry, U.S. Census Bureau data for 2017 show that there were 1,079 firms in this industry that operated for the entire year. Of those firms, 1,039 had revenue of less than $25 million. Consequently, under the SBA size standard a majority of firms in this industry can be considered small.

115. Small Businesses, Small Organizations, Small Governmental Jurisdictions. Our actions, over time, may affect small entities that are not easily categorized at present. We therefore describe three broad groups of small entities that could be directly affected by our actions. First, while there are industry specific size standards for small businesses that are used in the regulatory flexibility analysis, in general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

116. Wired Broadband Internet Access Service Providers (Wired ISPs). Providers of wired broadband internet access service include various types of providers except dial-up internet access providers. Wireline service that terminates at an end user location or mobile device and enables the end user to receive information from and/or send information to the internet at information transfer rates exceeding 200 kilobits per second (kbps) in at least one direction is classified as a broadband connection under the Commission's rules. Wired broadband internet services fall in the Wired Telecommunications Carriers industry. The SBA small business size standard for this industry classifies firms having 1,500 or fewer employees as small. U.S. Census Bureau data for 2017 show that there were 3,054 firms that operated in this industry for the entire year. Of this number, 2,964 firms operated with fewer than 250 employees.

117. Additionally, according to Commission data on internet access services as of June 30, 2024, nationwide there were approximately 2,204 providers of connections over 200 kbps in at least one direction using various wireline technologies. The Commission does not collect data on the number of employees for providers of these services, therefore, at this time we are not able to estimate the number of providers that would qualify as small under the SBA's small business size standard. However, in light of the general data on fixed technology service providers in the Commission's 2024 Communications Marketplace Report, we believe that the majority of wireline internet access service providers can be considered small entities.

118. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

119. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

D. Description of Economic Impact and Projected Reporting, Recordkeeping, and Other Compliance Requirements for Small Entities

120. The RFA directs agencies to describe the economic impact of proposed rules on small entities, as well as projected reporting, recordkeeping and other compliance requirements, including an estimate of the classes of small entities which will be subject to the requirements and the type of professional skills necessary for preparation of the report or record.

121. The FNPRM proposes rules that would impose new, additional reporting, recordkeeping, or other compliance obligations on small entities. The proposed rule changes identified in the FNPRM would advance United States' national security and economic security through protecting submarine cable infrastructure and promoting U.S. trusted technologies. We expect that these proposals will streamline our rules and processes, including for any small entities, and strengthen oversight of submarine cable systems that reach the United States. The FNPRM propose to presumptively exclude submarine cable applications from referral to the Executive Branch agencies if they meet certain standards, which could potentially assist small entities. The FNPRM seeks comment on additional approaches, such as a requirement for existing licensees to remove from their submarine cable system equipment and services identified on the Covered List within a specified timeframe prior to the expiration of the license and streamlined approval of submarine cables that connect one portion of the United States to another portion, i.e., domestic cables. We seek comment on ways the Commission can incentivize adoption and use of trusted technologies produced and provided by the United States and its foreign allies. The FNPRM proposes rules requiring applicants to certify that they will not use equipment or services on the submarine cable produced or provided by entities that are “owned by, controlled by, or subject to the jurisdiction or direction of a foreign adversary,” as defined in rules adopted in the Report and Order. The FNPRM seeks comment on prohibiting licensees from using third-party service providers owned by, controlled by, or subject to the jurisdiction or direction of a foreign adversary, identified in the Covered List, or that can access the submarine cable system from a foreign adversary country. We propose requiring applicants to provide cable installation, maintenance and repair plans with their application, recognizing that this rule proposal may ultimately affect small entities. Finally, we propose and seek comment on additional measures to reform and streamline the submarine cable licensing rules and processes and seek comment on the costs and benefits of the proposed rules and any alternatives.

122. The FNPRM proposes requiring SLTE owners and operators to become licenses but, to reduce burdens, proposes to grant these entities blanket licenses. The blanket licensing proposal would prevent any SLTE owner from having to apply for a license or for a modification to the license they already possess, making the licensing requirement cost-free for licensees. The FNPRM seeks comment on requiring SLTE owners and operators to comply with the routine conditions required of existing licensees, which may include filing annual circuit capacity reports. We seek comment on requiring SLTE owners and operators who meet the criteria for filing a Foreign Adversary Annual Report to file such a report. At this time, it is difficult to determine the number of SLTE owners and operators that this would impact. Additionally, we seek comment on whether to apply prior approval and/or post-consummation transaction requirements to SLTE owners and operators. Such a requirement, if adopted, would impose the cost of reporting pro forma transfers of control or assignments of licenses on SLTE owners, and of seeking Commission approval for substantive transfers of control or assignments prior to the transaction.

123. We also seek comment on a requirement to provide submarine cable installation, maintenance, and repair plans to the Commission upon request, which we do not anticipate to be costly as the licensee will likely already produce such plans in the ordinary course of business.

124. We seek comment on new routine conditions for all licensees, including requiring licensees to notify the Commission for changes to the coordinates or addresses for each beach manhole, cable landing station, or network operations center (NOC); notification of a licensee's license expiration and intent of non-renewal or non-extension of the license; notification of a system retirement; certification for changes to foreign adversary ownership of a licensee; and certification for changes to the foreign adversary country list. We propose to require a certification of changes to the Covered List. The cost of compliance for a licensee would vary depending on how often the licensee undergoes any of the experiences that would trigger a notification or certification to the Commission. We anticipate that the information the Commission seeks would be information licensees would already possess in the ordinary course of business.

125. The FNPRM seeks comment on whether to require licensees to gradually transition away from use of equipment and services identified on the Covered List in their submarine cable system. We anticipate such a requirement may be burdensome to licensees, including any small business or small entity licensees, and seek comment on minimizing those burdens.

126. Our estimate of costs should include all of the expected costs that would be incurred as a result of the rules proposed in the FNPRM, including the costs of additional data collection concerning SLTEs, reporting costs, and the costs of enforcing our additional requirements. We note that the annual aggregate cost of the proposed rules described above will vary, depending on the rules adopted. We estimate that our proposal to require SLTE owners and operators to be licensees in new submarine cable system applications will increase costs for applicants by approximately $18,200 per SLTE owner and operator. We seek comment on the number of SLTE owners and operators that will be added as licensees to each new application. Moreover, we expect that our proposal to expedite applications that meet national security conditions will result in significant cost savings for licensees by reducing the time and resources required to prepare these applications. We seek comment on the estimated cost savings that would accrue if these rules are adopted. We also seek comment on any additional costs on licensees, including on small entities.

127. We are especially interested in estimates that address alternative means to provide the same benefits, in terms of protecting submarine cable infrastructure from national security risks, at lower costs. The Commission expects the information we receive in comments including, where requested, cost and benefit analyses, will help to identify and evaluate relevant compliance matters for small entities, including compliance costs and other burdens that may result if the proposals and associated requirements discussed in the FNPRM are adopted.

E. Discussion of Significant Alternatives Considered That Minimize the Significant Economic Impact on Small Entities

128. The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

129. As described in the FNPRM, we consider and seek comment on the potential impact and burdens our proposed rules would generally have on submarine cable applicants and licensees, including owners of SLTE, some of whom may be small entities. As part of our proposals, we discuss alternative options that could potentially reduce the impacts and burdens with respect to small entities and more generally for entities subject to the Commission's submarine cable rules.

130. We considered the burdens on SLTE owners in our proposal to extend licensing requirements to SLTE owners, by proposing blanket licensing that would prevent SLTE owners from having to apply for a license or for a modification to an existing license. We do not know how many SLTE owners are small businesses, but our proposal to minimize the burden on SLTE owners of proposed licensing would also lighten the burden on small business SLTE owners.

131. We seek comment on the burdens of applicants submitting cable installation and maintenance and repair plans with their application, and on licensees if a routine condition were imposed requiring their cable installation and repair plans. The major alternative to these proposals is opting not to impose them if the burdens are too onerous and outweigh the benefits.

132. We propose additional requirements on licensees' cybersecurity and physical security risk management plans. We seek comment which standards and best practices to use, proposing alternatives such as National Institute of Standards and Technology Cybersecurity Framework, Cybersecurity & Infrastructure Security Agency Cybersecurity Cross sector Performance Goals and Objectives, or the Center for Internet Security's Critical Security Controls (CIS Controls).

133. We seek comment on whether to impose routine conditions tailored to SLTE owners and operators who may become licensees, and in doing so seek comment on which routine conditions are warranted; the contemplated alternatives include refraining from imposing any or all of them.

134. We seek comment on a broad range of timelines for transitioning licensees away from use of equipment and services on the Covered List, and seek comment on alternatives such as having licensees submit their own plan for removal of covered equipment and services within a specified timeframe.

135. We also contemplate a number of proposals to expedite or streamline submarine cable applications, including expediting review of domestic U.S. cables and excluding from referral to the Executive Branch applicants which meet certain requirements, which could benefit any submarine cable licensees who are small businesses.

F. Federal Rules That May Duplicate, Overlap, or Conflict With the Proposed Rules

136. None.

VI. Ordering Clauses

137. It is ordered that, pursuant to sections 1, 4(i), 4(j), 201-255, 303(r), 403, 413 of the Communications Act of 1934, as amended, 47 U.S.C. 151, 154(i), 154(j), 201-255, 303(r), 403, 413, and the Cable Landing License Act of 1921, 47 U.S.C. 34-39, and Executive Order No. 10530, section 5(a) (May 12, 1954) reprinted as amended in 3 U.S.C. 301, this Further Notice of Proposed Rulemaking is hereby adopted.

138. It is further ordered that the Office of the Managing Director, Performance Program Management, shall send a copy of this Further Notice of Proposed Rulemaking in a report to be sent to Congress and the Government Accountability Office pursuant to the Congressional Review Act, see 5 U.S.C. 801(a)(1)(A).

139. It is further ordered that the Commission's Office of the Secretary shall send a copy of this Further Notice of Proposed Rulemaking, including the Initial Regulatory Flexibility Analyses, to the Chief Counsel for Advocacy of the Small Business Administration.

Federal Communications Commission.
Aleta Bowers,
Federal Register Liaison Officer, Office of the Secretary.

[FR Doc. 2025-19657 Filed 10-24-25; 8:45 am]

BILLING CODE 6712-01-P